DEPARTMENT OF THE INTERIOR

Bureau of Indian Affairs

[AAK3000000/156A2100DD/A0H501010.999900]

Indian Child Welfare Act; Designated Tribal Agents for Service of Notice

AGENCY: Bureau of Indian Affairs, Interior.

ACTION: Notice.

SUMMARY: The regulations implementing the Indian Child Welfare Act (ICWA) provide that Indian tribes may designate an agent other than the tribal chairman for service of notice of proceedings under ICWA. This notice includes the current list of designated tribal agents for service of notice.

FOR FURTHER INFORMATION CONTACT: Ms. Debra Burton, Bureau of Indian Affairs Division of Human Services, 1849 C Street NW., Mail Stop 4513-MIB, Washington, DC 20240; Telephone: (202) 513-7610, Email: debra.burton@bia.gov.

SUPPLEMENTARY INFORMATION: The regulations implementing ICWA, 25 U.S.C. 1901 et seq., provide that Indian tribes may designate an agent other than the tribal chairman for service of notice of proceedings under the Act. See 25 CFR 23.12. The Secretary of the Interior is required to publish as necessary in the Federal Register the names and addresses of the designated tribal agents. This notice is published in exercise of authority delegated by the Secretary of the Interior to the Principal Deputy Assistant Secretary—Indian Affairs by 209 DM 8. In addition to this notice, the updated list of designated tribal agents by Bureau of Indian Affairs (BIA) Region can also be found on the BIA Web site at: http://www.bia.gov/WhoWeAre/BIA/OIS/HumanServices/IndianChildWelfareAct/index.htm.

A. List of Regions

1. Alaska Region

2. Eastern Region

3. Eastern Oklahoma Region

4. Great Plains Region

5. Midwest Region

6. Navajo Region

7. Northwest Region

8. Pacific Region

9. Rocky Mountain Region

10. Southern Plains Region

11. Southwest Region

12. Western Region

B. List of Designated Tribal Agents by Region

1. Alaska Region

Alaska Region, Human Services Director, 3601 C Street, Suite 1100 Anchorage, AK 99503 Phone: (907) 271-4111.

A

Afognak, Native Village of, Denise Malutin, ICWA Worker, 323 Carolyn Street Kodiak, AK 99615; Phone: (907) 486-6357; Fax: (907) 486-6529 Email: denise@afognak.org; taletha@afognak.org;Melissa@afognak.org

Agdaagux Tribe of King Cove, Tara Bourdukofsky, M.S., Human Services Director, Aleutian/Pribilof Islands Association, 1131 East International Airport Road, Anchorage, AK 99518-1408; Phone: (907) 276-2700; Fax: (907) 279-4351; Email: taralb@apiai.org

Akhiok, Native Village of, Cassie Hickey, ICWA Coordinator, 3449 Rezanof Drive East, Kodiak, AK 99615; Phone: (907) 486-9882; Fax: (907) 486-1410 Email: cassie.hickey@kanaweb.org

Akiachak Native Community, Georgianna Wassilie, ICWA Worker P.O. Box 51070 Akiachak, AK 99551; Phone: (907) 825-4073; Fax: (907) 825-4029 and Cheryl Offt, ICWA Director, Association of Village Council Presidents, P.O. Box 219, Bethel, AK 99559; Phone: (907) 543-7400; Fax: (907) 543-5759; Email: cofft@avcp.org

Akiak Native Community, Sheila Williams, Tribal Administrator P.O. Box 52127, Akiak, AK 99552 Phone: (907) 765-7117; Fax: (907) 765-7512

Akutan, Native Village of, Tara Bourdukofsky, M.S., Human Services Director, Aleutian/Pribilof Islands Association, 1131 East International Airport Road, Anchorage, AK 99518-1408; Phone: (907) 276-2700; Fax: (907) 279-4351, Email: taralb@apiai.org

Alakanuk, Village of, Charlene Striling, ICWA Worker, Box 149, Alakanuk, AK 99554; Phone: (907) 238-3704; Fax: (907) 238-3705; and Cheryl Offt, ICWA Director, Association of Village Council Presidents, P.O. Box 219, Bethel, AK 99559; Phone: (907) 543-7400; Fax: (907) 543-5759; Email: cofft@avcp.org; cstriling@avcp.org

Alatna Village, Catherine Henzie, Tribal Family Youth Specialist, P.O. Box 70 Allakaket, AK 99720; Phone: (907) 968-2261; Fax: (907) 968-2305; and Tanana Chiefs Conference, Legal Department, 122 First Avenue, Suite 600 Fairbanks, AK 99701; Phone: (907) 452-8251 Ext. 3178; Fax: (907) 459-3953

Aleknagik, Native Village of, Jane Gottschalk, Caseworker II, P.O. Box 115, Aleknagik, AK 99555; Phone: (907) 842-4577; Fax: (907) 842-2229 and Bristol Bay Native Association, Children's Services Program Manager, P.O. Box 310, 1500 Kanakanak Road, Dillingham, AK 99576; Phone: (907) 842-4139; Fax: (907) 842-4106; Email: cnixon@bbna.com

Algaaciq Native Village, Theresa Kelly, Box 48, St. Mary's, AK 99658; Phone: (907) 438-2335; Fax: (907) 438-2227 and Cheryl Offt, ICWA Director, Association of Village Council Presidents, P.O. Box 219, Bethel, AK 99559; Phone: (907) 543-7400; Fax: (907) 543-5759; Email: tkelly@avcp.org; cofft@avcp.org

Allakaket Village, Melanie Wholecheese, Tribal Family Youth Specialist, P.O. Box 50, Allakaket, AK 99720; Phone: (907) 968-2337; Fax: (907) 968-2233; and Tanana Chiefs Conference, Legal Department, 122 First Avenue, Suite 600 Fairbanks, AK 99701; Phone: (907) 452-8251 Ext. 3178; Fax: (907) 459-3953

Ambler, Native Village, Lois Sheldon, ICWA Coordinator; or Effie Esenituk, Alternate, P.O. Box 86047 Ambler, AK 99786; Phone: (907) 445-2189/445-2196/444-3852; Fax: (907) 445-2257; Email: icwa@ivisaappaat.org

Anaktuvuk, Village of, Social Services Director, Inupiat Community of the Arctic Slope, P.O. Box 934, Barrow, AK 99723, Phone: (907) 852-5923; Fax: (907) 852-5924; Email: social@inupiatgov.com

Andreafski (see Yupiit of Andreafski)

Angoon Community Association, Marcie Kookesh, ICWA Worker, P.O. Box 328, Angoon, AK, 99820 Phone: (907) 788-3411; Fax: (907) 788-3412

Aniak, Village of, Muriel Morgan, ICWA Worker, P.O. Box 349, Aniak, AK 99557; Phone: (907) 675-4349; Fax: (907) 675-4513

Anvik Village, Tami Jerue, Tribal Family Youth Specialist, P.O. Box 22 Anvik, AK 99558; Phone: (907) 663-6378; Fax: (907) 663-6357; and Tanana Chiefs Conference, Legal Department, 122 First Avenue, Suite 600 Fairbanks, AK 99701; Phone: (907) 452-8251 Ext. 3178; Fax: (907) 459-3953

Arctic Village, Lisa Frank, Tribal Family Youth Specialist, P.O. Box 22069, Arctic Village, AK 99722; Phone: (907) 587-5523; Fax: (907) 587-5128; and Tanana Chiefs Conference, Legal Department, 122 First Avenue, Suite 600 Fairbanks, AK 99701; Phone: (907) 452-8251 Ext. 3178; Fax: (907) 459-3953

Asa'carsarmiut Tribe (formerly Native Village of Mountain Village), Darlene Peterson, Director of Social Services, and Daphne Joe, Social Services, P.O. Box 32107; Mountain Village, AK 99632; Phone: (907) 591-2428; Fax: (907) 591-2934; Email: atcicwa@gci.net

Atka, Native Village of, Tara Bourdukofsky, M.S., Human Services Director, Aleutian/Pribilof Islands Association, 1131 East International Airport Road, Anchorage, AK 99518-1408; Phone: (907) 276-2700; Fax: (907) 279-4351, Email: taralb@apiai.org

Atmautluak, Village of, Alexie Earl Brown, ICWA Worker & Daniel Waska, Tribal Administrator, P.O. Box 6568, Atmautluak, AK 99559 Phone: (907) 553-5610; Fax: (907) 553-5612

Atqasuk Village, Maude Hopson, ICWA Coordinator, Social Services Department, Arctic Slope Native Association, Ltd., P.O. Box 1232, Barrow, AK 99723; Phone: (907) 852-9374; Fax: (907) 852-9152 Email: maude.hopson@arcticslope.org

B

Barrow, Native Village of, Marjorie Solomon, Social Services Director, P.O. Box 1130 Barrow, AK 99723; Phone: (907) 852-4411 Fax: (907) 852-4413 Email: marjorie.solomon@nvbarrow.net

Beaver Village, Arlene Pitka, Tribal Family Youth Specialist, P.O. Box 24029, Beaver, AK 99724; Phone: (907) 628-6126; Fax: (907) 628-6185; and Tanana Chiefs Conference, Legal Department, 122 First Avenue, Suite 600, Fairbanks, AK 99701; Phone: (907) 452-8251 Ext. 3178; Fax: (907) 459-3953

Belkofski, Native Village of, Tara Bourdukofsky, M.S., Human Services Director, Aleutian/Pribilof Islands Association, 1131 East International Airport Road, Anchorage, AK 99518-1408; Phone: (907) 276-2700 Fax: (907) 279-4351, Email: taralb@apiai.org

Bettles Field (see Evansville Village)

Bill Moore's Slough Village, Nancy C. Andrews, ICWA Worker & Rose Cheemuk, Tribal Administrator, P.O. Box 20288, Kotlik, AK 99620; Main Office Phone: (907) 899-4232; Main Office Fax: (907) 899-4461; ICWA Office Phone: (907) 899-4236; ICWA Office Fax: (907) 899-4002

Birch Creek Tribe, Jackie Balaam, Tribal Family Youth Specialist, P.O. Box KBC Fairbanks, AK 99707; Phone: (907) 378-1573; Fax (907) 452-5063; and Tanana Chiefs Conference, Legal Department, 122 First Avenue, Suite 600 Fairbanks, AK 99701; Phone: (907) 452-8251 Ext. 3178; Fax: (907) 459-3953

Brevig Mission, Native Village of, Linda M. Divers, Tribal Family Coordinator, P.O. Box 85039, Brevig Mission, AK 99785; Phone: (907) 642-3012; Fax: (907) 642-3042 Email: linda@kawerak.org and Ms. Traci McGarry, Program Director, Kawerak, Inc. Children & Family Services, P.O. Box 948 Nome, AK 99762 Phone: (907) 443-4376/4261 Fax: (907) 443-4464/4457; Email: cfsdir@kawerak.org

Buckland, Native Village of, Tracey Hadley, ICWA Coordinator, P.O. Box 67 Buckland, AK 99727; Phone: (907) 494-2169; Fax: (907) 494-2168 Email: icwa@nunachiak.org

C

Cantwell, Native Village of, Dorothy Slater, ICWA Program, Copper Center Native Association, P.O. Box 206, Copper Center, AK 99573; Phone: (907) 822-5241; Fax: (907) 822-8800 Email: djslater@crnative.org

Central Council of the Tlingit and Haida Indian Tribes of Alaska, Amalia Monreal, ICWA Coordinator; 320 W. Willoughby Ave., Suite 300, Juneau, AK 99801; Phone: (907) 463-7169; Fax: (907) 463-7343; Email:amonreal@ccthita.org oricwamail@ccthita.org

Chalkyitsik Village, Amanda Wright, Tribal Administrator, P.O. Box 57, Chalkyitsik, AK 99788; Phone: (907) 848-8117; Fax: (907) 848-8986; and Tanana Chiefs Conference, Legal Department, 122 First Avenue, Suite 600 Fairbanks, AK 99701; Phone: (907) 452-8251 Ext. 3178; Fax: (907) 459-3953

Chanega (aka Chenega), Native Village of, Norma J. Selanoff, ICWA Representative, P.O. Box 8079, Chenega Bay, AK 99574-8079; Phone: (907) 573-5386; Fax: (907) 573-5387

Cheesh-Na- Tribe, Ms. Cecil Sanford, Social Services Coordinator, P.O. Box 241 Gakona, AK 99586; Phone: (907) 822-3503; Fax: (907) 822-5179; Email: csanford@cheeshna.com

Chefornak, Native Village of, Edward Kelly, Community Family Services Specialist, P.O. Box 110 Chefornak, AK. 99651; Phone: (907) 867-8808; Fax: (907) 867-8711 and Cheryl Offt, ICWA Director, Association of Village Council Presidents, P.O. Box 219, Bethel, AK 99559; Phone: (907) 543-7400; Fax: (907) 543-5759; Email: cofft@avcp.org; sjenkins@avcp.org or mfredricks@avcp.org

Chevak, Native Village of, Esther Friday, ICWA Worker, Box 140, Chevak, AK 99563; Phone: (907) 858-7918; Fax: (907) 858-7919 and Cheryl Offt, ICWA Director, Association of Village Council Presidents, P.O. Box 219, Bethel, AK 99559; Phone: (907) 543-7400; Fax: (907) 543-5759; Email: cofft@avcp.org; sjenkins@avcp.org; mfredricks@avcp.org

Chickaloon Native Village, Penny Westing, ICWA Case Manager, P.O. Box 1105, Chickaloon, AK 99674; Phone: (907) 745-0794; Fax: (907) 745-0709; Email: penny@chickaloon.org

Chignik Bay Tribal Council, Debbie Carlson, Administrator, Box 50, Chignik, AK 99564; Phone: (907) 749-2445; Fax: (907) 749-2423; Email: cbaytc@gci.com; and Bristol Bay Native Association, Children's Services Program Manager, P.O. Box 310, 1500 Kanakanak Road, Dillingham, AK 99576; Phone: (907) 842-4139; Fax: (907) 842-4106; Email: cnixon@bbna.com

Native Village of Chignik Lagoon, Nancy Anderson, ICWA, P.O. Box 09, Chignik Lagoon, AK 99565; Phone: (907) 840-2281; Fax: (907) 840-2217; Email: clagoon@gci.net and Bristol Bay Native Association, Children's Services Program Manager, P.O. Box 310, 1500 Kanakanak Road, Dillingham, AK 99576; Phone: (907) 842-4139; Fax: (907) 842-4106; Email: cnixon@bbna.com

Chignik Lake Village, ICWA Worker, P.O. Box 33, Chignik Lake, AK 99548; Phone (907) 845-2358; Fax: (907) 845-2246 and Bristol Bay Native Association, Children's Services Program Manager, P.O. Box 310, 1500 Kanakanak Road, Dillingham, AK 99576; Phone: (907) 842-4139; Fax: (907) 842-4106; Email: cnixon@bbna.com

Chilkat Indian Village, Carrie Durr, ICWA Caseworker, HC 60 Box 2207 Haines, AK 99827; Phone: (907) 767-5505; Fax: (907) 767-5408; Email: cdurr@chilkat-nsn.gov

Chilkoot Indian Association, Stella Howard, Family Caseworker/CCTH Field Supervisor, P.O. Box 624, Haines, AK 99827; Phone: (907) 766-2810; Fax: (907) 766-2845; Email: showard@ccthita.org

Chinik Eskimo Community (aka Golovin), Kirstie Ione,Tribal Family Coordinator, P.O. Box 62020, Golovin, AK 99762;Phone: (907) 779-3489; Fax: (907) 779-2000; Email: tfc.glv@kawerak.org and Ms. Traci McGarry, Program Director, Kawerak, Inc. Children & Family Services, P.O. Box 948 Nome, AK 99762 Phone: (907) 443-4376/4261; Fax: (907) 443-4464/4457; Email: cfsdir@kawerak.org

Chistochina (see Cheesh-na Tribe)

Chitina, Native Village of, Tribal President and Tribal Administrator, P.O. Box 31, Chitina, AK. 99566; Phone: (907) 823-2215; FAX: (907) 823-2233.

Chuathbaluk, Native Village of, Tracy Simeon, ICWA Worker, Box CHU, Chuathbaluk, AK 99557 Phone: (907) 467-4313; Fax: (907) 467-4113; and Cheryl Offt, ICWA Director, Association of Village Council Presidents, P.O. Box 219, Bethel, AK 99559; Phone: (907) 543-7400; Fax: (907) 543-5759; Email: cofft@avcp.org; sjenkins@avcp.org; mfredricks@avcp.org

Chuloonawick, Native Village of, Bambi Akers, Tribal Administrator, P.O. Box 245, Emmonak, AK 99581; Phone: (907) 949-1345; Fax: (907) 949-1346; Email: coffice@starband.net

Circle Native Community, Jessica Boyle, Tribal Family Youth Specialist, P.O. Box 89, Circle, AK 99733; Phone: (907) 773-2822; Fax: (907) 773-2823; Email: Jessica.boyle@tananachiefs.org; and Tanana Chiefs Conference, Legal Department, 122 First Avenue, Suite 600 Fairbanks, AK 99701; Phone: (907) 452-8251 Ext. 3178; Fax: (907) 459-3953

Clarks Point, Village of, Harry Wassily Sr., President, P.O. 9, Clarks Point, AK 99569 Phone: (907) 236-1427; Fax: (907) 236-1428 and Bristol Bay Native Association, Children's Services Program Manager, P.O. Box 310, 1500 Kanakanak Road, Dillingham, AK 99576; Phone: (907) 842-4139; Fax: (907) 842-4106; Email: cnixon@bbna.com

Copper Center (see Native Village of Kluti-Kaah)

Cordova (see Eyak)

Council, Native Village of, Rhonda Hanebuth, ICWA Coordinator, P.O. Box 986, Nome, AK 99762; Phone: (907) 443-7649; Fax: (907) 443-5965.

Craig Community Association, Roberta Patten, Family Casework I, P.O. Box 746 Craig, AK 99921 Phone: 907 826-3948 Fax: (907) 826-5526 and Central Council Tlingit and Haida Tribes of Alaska; Email: rpatten@ccthita.org

Crooked Creek, Village of, Helen Macar, ICWA Worker & Evelyn Thomas, President, P.O. Box 69, Crooked Creek, AK 99575; Phone: (907) 432-2200 Fax: (907) 432-2201 Email: bbcc@starband.net

Curyung Tribal Council (formerly the Native Village of Dillingham), ICWA Case Worker II, P.O. Box 216, Dillingham, AK 99576; Phone: (907) 842-4508; Fax: (907) 842-4508; and Bristol Bay Native Association, Children's Services Program Manager, P.O. Box 310, 1500 Kanakanak Road, Dillingham, AK 99576; Phone: (907) 842-4139; Fax: (907) 842-4106; Email: cnixon@bbna.com

D

Deering, Native Village of, ICWA Coordinator and Tribal Administrator, P.O. Box 360, Deering, AK 99736; Phone: (907) 363-2229; Fax: (907) 363-2195 and Maniilaq Association, Family Services, P.O. Box 256, Kotzebue, AK 99752; Phone: (907) 442-7870

Dillingham (see Curyung Tribal Council)

Diomede (aka Inalik) Native Village of, Etta Ahkinga, Tribal Family Coordinator, P.O. Box 948 Nome, AK 99762; Phone: (907) 443-4261; Fax: (907) 443-4464; Email: tfc.dio@kawerak.org

Dot Lake, Village of, Clara Perdue, ICWA Worker, P.O. Box 2279 Dot Lake, AK 99737; Phone: (907) 882-2695; Fax: (907) 882-5558; and Tanana Chiefs Conference, Legal Department, 122 First Avenue, Suite 600 Fairbanks, AK 99701; Phone: (907) 452-8251 Ext. 3178; Fax: (907) 459-3953

Douglas Indian Association, Loretta Marvin, ICWA Worker, 811 West 12th Street, Suite 200, Juneau, AK 99801; Phone: (907) 364-2983; Fax: (907) 364-2917; Email: bmarvin-dia@gci.net

E

Eagle, Native Village, Claire Ashley, Tribal Family Youth Specialist, P.O. Box 19, Eagle, AK 99738; Phone: (907) 547-2271; Fax: (907) 547-2318; Email: Claire.ashley@tananachiefs.org; and Tanana Chiefs Conference, Legal Department, 122 First Avenue, Suite 600 Fairbanks, AK 99701; Phone: (907) 452-8251 Ext. 3178; Fax: (907) 459-3953

Edzeno (see Nikolai Native Council)

Eek, Native Village, Lillian Cleveland, ICWA Worker, Box 89, Eek, AK 99578; Phone: (907) 536-5572; Fax: (907) 536-5582; and Cheryl Offt, ICWA Director, Association of Village Council Presidents, P.O. Box 219, Bethel, AK 99559; Phone: (907) 543-7400; Fax: (907) 543-5759; Email: cofft@avcp.org; lcleveland@avcp.org

Egegik Village, Marcia Abalama, Case Worker III-ICWA Team Leader, P.O. Box 154, Egegik, AK 99579; Phone: (907) 233-2207; Fax: (907) 233-2212; and Bristol Bay Native Association, Children's Services Program Manager, P.O. Box 310, 1500 Kanakanak Road, Dillingham, AK 99576; Phone: (907) 842-4139; Fax: (907) 842-4106; Email: cnixon@bbna.com

Eklutna, Native Village of, Ms. Jamison M. Cole, LCSW, ICWA Worker, Social Services Director, P.O. Box 670666 Chugiak, AK 99567; Phone: (907) 688-1808 Office (907) 242-6980 cell; Fax: (907) 688-6032; Email: nve.icwa@eklutna-nsn.gov; nve.socialservice@eklutna-nsn.gov

Ekuk, Native Village of, Helen Foster, Tribal Administrator and Maria Binkowski, Receptionist/File Clerk, 300 Main St., P.O. Box 530 Dillingham, AK 99576; Phone: (907) 842-4139; Fax: (907) 842-3843 and Bristol Bay Native Association, Children's Services Program Manager, P.O. Box 310, 1500 Kanakanak Road, Dillingham, AK 99576; Phone: (907) 842-4139; Fax: (907) 842-4106; Email: cnixon@bbna.com

Ekwok Village, Sandra Stermer, ICWA Case Worker II, P.O. Box 70, Ekwok, AK 99580; Phone: (907) 464-3349; Fax: (907) 464-3350; Email: sstermer@starband.net and Bristol Bay Native Association, Children's Services Program Manager, P.O. Box 310, 1500 Kanakanak Road, Dillingham, AK 99576; Phone: (907) 842-4139; Fax: (907) 842-4106; Email: cnixon@bbna.com

Elim, Native Village of, Joseph H. Murray, Tribal Family Coordinator, P.O. Box 70, Elim, AK 99739 Phone: (907) 890-2457; Fax: (907) 890-2458 Email: jmurrayjr@kawerak.org and

Ms. Traci McGarry, Program Director, Kawerak, Inc. Children & Family Services, P.O. Box 948 Nome, AK 99762 Phone: (907) 443-4376/4261; Fax: (907) 443-4464/4457; Email: cfsdir@kawerak.org

Emmonak, Native Village, Priscilla S. Kameroff, ICWA Coordinator and Tribal Administrator, P.O. Box 126, Emmonak, AK 99581; Phone: (907) 949-1720/1820; Fax: (907) 949-1384; Email: icwa@hughes.net

English Bay (see Native Village of Nanwalek)

Evansville Village (aka Bettles Field), Naomi Costello, Tribal Family Youth Specialist, P.O. Box 26087, Evansville, AK 99726; Phone: (907) 692-5005; Fax: (907) 692-5006; and Tanana Chiefs Conference, Legal Department, 122 First Avenue, Suite 600 Fairbanks, AK 99701; Phone: (907) 452-8251 Ext. 3178; Fax: (907) 459-3953

Eyak, Native Village, Erin Kurz, Tribal Family Services Coordinator, P.O. Box 1388, Cordova, AK 99574; Phone: (907) 424-7738; Fax: (907)424-7809; Email: erin@eyak-nsn.gov

F

False Pass, Native Village, Tara Bourdukofsky, M.S., Human Services Director, Aleutian/Pribilof Islands Association, 1131 East International Airport Road, Anchorage, AK 99518-1408; Phone: (907) 276-2700; Fax: (907) 279-4351; Email: taralb@apiai.org

Fort Yukon, Native Village (see Gwichyaa Zhee Gwich'in Tribal Government), Kimberly Ansaknok, Tribal Family Youth Specialist, P.O. Box 10 Fort Yukon, AK 99740; Phone: (907) 662-3625; Fax: (907) 662-3118; and Tanana Chiefs Conference, Legal Department, 122 First Avenue, Suite 600 Fairbanks, AK 99701; Phone: (907) 452-8251 Ext. 3178; Fax: (907) 459-3953

Fortuna Ledge (see Native Village of Marshall)

G

Gakona, Native Village of, Charlene Nollner, Tribal Administrator, P.O. Box 102, Gakona, AK 99586; Phone: (907) 822-5997; Fax: (907) 822-5997; Email: gakonaadmin@cvinternet.net

Galena Village (aka Louden Village), March Runner, Tribal Administrator/Tribal Family Youth Specialist P.O. Box 244 Galena, AK 99741; Phone: (907) 656-1711; Fax: (907) 656-2491; Email: marchrunner@aol.com

Gambell, Native Village of, Tyler Campbell, Sr., ICWA, P.O. Box 90, Gambell, AK 99742; Phone: (907) 985-5346 Ext. 4; Fax: (907) 985-5014

Georgetown, Native Village of, Will Hartman, Tribal Administrator, 5313 Arctic Blvd., Suite 104, Anchorage, AK 99518; Phone: (907) 274-2195; Fax: (907) 274-2196; Email: gtc@gci.net

Golovin (see Chinik Eskimo Community)

Goodnews Bay, Native Village, Pauline Echuk, ICWA Worker, Box 48, Goodnews Bay, AK 99589 Phone: (907) 967-8929; Fax: (907) 967-8330 and Cheryl Offt, ICWA Director, Association of Village Council Presidents, P.O. Box 219, Bethel, AK 99559; Phone: (907) 543-7400; Fax: (907) 543-5759; Email: cofft@avcp.org; sjenkins@avcp.org; mfredricks@avcp.org

Organized Village of Grayling, Johanna Hamilton, Tribal Family Youth Specialist, P. O. Box 49, Grayling, AK 99590; Phone: (907) 453-5142; Fax: (907) 453-5146; and Tanana Chiefs Conference, Legal Department, 122 First Avenue, Suite 600 Fairbanks, AK 99701; Phone: (907) 452-8251 Ext. 3178; Fax: (907) 459-3953

Gulkana Village Council, Jan Miller, Family Services Specialist, P.O. Box 254 Gakona, AK 99586 Phone: (907) 822-5363; Fax: (907) 822-3976 Email: icwa@gulkanacouncil.org

Gwichyaa Zhee Gwich'in Tribal Government (aka Fort Yukon)

H

Haines (see Chilkoot Indian Association)

Hamilton, Native Village of, Tribal Administrator, P.O. Box 20248 Hamilton, AK 99620; Phone: (907) 899-4252; Fax: (907) 899-4202; and Cheryl Offt, ICWA Director, Association of Village Council Presidents, P.O. Box 219, Bethel, AK 99559; Phone: (907) 543-7400; Fax: (907) 543-5759; Email: cofft@avcp.org; sjenkins@avcp.org; mfredricks@avcp.org

Healy Lake Village, (No tribal contact information at this time. Contact the BIA Human Services, Alaska Region)

Holikachuk (see Grayling)

Holy Cross Village, Rebecca Demientieff, Tribal Family Youth Specialist, P.O. Box 191, Holy Cross, AK 99602; Phone: (907) 476-7249; Fax: (907) 476-7132; Email: rebecca.demientieff@tananachiefs.org and Tanana Chiefs Conference, Legal Department, 122 First Avenue, Suite 600 Fairbanks, AK 99701; Phone: (907) 452-8251 Ext. 3178; Fax: (907) 459-3953

Hoonah Indian Association, Candy Keown, Human Services Director, P.O. Box 602 Hoonah, AK 99829 Phone: (907) 945-3545; Fax: (907) 945-3530; Email: ckeown@hiatribe.org

Hooper Bay, Native Village, Pearl Semaken, ICWA Program, Box 62, Hooper Bay, AK 99604; Phone: (907) 758-4006; Fax: 758-4606 and Cheryl Offt, ICWA Director, Association of Village Council Presidents, P.O. Box 219, Bethel, AK 99559; Phone: (907) 543-7400; Fax: (907) 543-5759; Email: cofft@avcp.org; psemaken@avcp.org

Hughes Village, Janet Bifelt, Tribal Administrator or Tribal Family Youth Specialist, P.O. Box 45029 Hughes, AK 99745; Phone: (907) 889-2249; Fax: (907) 889-2252

Huslia Village, Cesa Sam, Tribal Family Youth Specialist, P.O. Box 70, Huslia, AK 99746; Phone: (907) 829-2202; Fax: (907) 829-2214; and Tanana Chiefs Conference, Legal Department, 122 First Avenue, Suite 600 Fairbanks, AK 99701; Phone: (907) 452-8251 Ext. 3178; Fax: (907) 459-3953

Hydaburg Cooperative Association, Colleen Kashevarof, Human Services Director, P.O. Box 349, Hydaburg, AK 99922; Phone: (907) 285-3662; Fax: (907) 285-3541

I

Igiugig Village, Tanya Salmon, ICWA Worker, P.O. Box 4008, Igiugig, AK 99613; Phone: (907) 533-3211; Fax: (907) 533-3217

Iliamna Village Council, Thomas Hedlund, Tribal President, P.O. Box 286 Iliamna, AK 99606; Phone: (907) 571-1246; Fax: 571-3539; Email: ivc@iliamnavc.org

Inupiat Community of the Arctic Slope, Dora Neakok, Social Services Director P.O. Box 934, Barrow, AK 99723; Phone: (907) 852-4227, ext. 234; Fax: (907) 852-4246; Email: social@inupiatgov.com

Iqurmuit Traditional Council (aka Russian Mission), Katie Nick, Community Family Services Specialist, P.O. Box 38 Russian Mission, AK 99657; Phone: (907) 584-5594; Fax: (907) 584-5596; and Cheryl Offt, ICWA Director, Association of Village Council Presidents, P.O. Box 219, Bethel, AK 99559; Phone: (907) 543-7400; Fax: (907) 543-5759; Email: cofft@avcp.org; knick@avcp.org

Ivanoff Bay Village, Edgar Shangin, Tribal President, 7926 Old Seward Hwy, Suite B-5, Anchorage, AK 99518; Phone (907) 522-2263; Fax: (907) 522-2363; Email: nicole@ivanofbaytribe.org; and Bristol Bay Native Association, Children's Services Program Manager, P.O. Box 310, 1500 Kanakanak Road, Dillingham, AK 99576; Phone: (907) 842-4139; Fax: (907) 842-4106; Email: cnixon@bbna.com

K

Kaguyak Village, Phyllis Amodo, Tribal President, P.O. Box 5078, Akhiok, AK 99615; Phone: (907) 836-2231; Fax: (907) 836-2345

Organized Village of Kake, Ann Jackson, Social Services Director, P. O. Box 316, Kake, AK 99830; Phone: (907) 785-6471; Fax: (907)785-4902

Kaktovik Village (aka Barter Island), Maude Hopson, ICWA Coordinator, Social Services Department, Arctic Slope Native Association, Ltd., P.O. Box 1232, Barrow, AK 99723; Phone: (907) 852-9374; Fax: (907) 852-9152; Email: maude.hopson@arcticslope.org

Kalskag, Village of, (aka Upper Kalskag) Bonnie Persson, Tribal Administrator, P.O. Box 50 Kalskag, AK 99607; Phone: (907) 471-2296; Fax: (907) 471-2399; and Cheryl Offt, ICWA Director, Association of Village Council Presidents, P.O. Box 219, Bethel, AK 99559; Phone: (907) 543-7400; Fax: (907) 543-5759; Email: cofft@avcp.org; sjenkins@avcp.org; mfredricks@avcp.org

Lower Kalskag (See Lower Kalskag)

Kaltag, Village of, Donna Esmailka, Tribal Administrator, P.O. Box 129 Kaltag, AK 99748 Phone: (907) 534-2243; Fax: (907) 534-2264; and Tanana Chiefs Conference, Legal Department, 122 First Avenue, Suite 600 Fairbanks, AK 99701; Phone: (907) 452-8251 Ext. 3178; Fax: (907) 459-3953

Kanatak, Native Tribe of, Shawn Shanigan, Tribal Administrator, P.O. Box 876822 Wasilla, AK 99687; Phone: (907) 357-5991; Fax: (907) 357-5992 and Bristol Bay Native Association, Children's Services Program Manager, P.O. Box 310, 1500 Kanakanak Road, Dillingham, AK 99576; Phone: (907) 842-4139; Fax: (907) 842-4106; Email: cnixon@bbna.com

Karluk, Native Village of, Kristeen Reft, ICWA Worker, P.O. Box 22, Karluk, AK 99608 Phone: (907) 241-2218; Fax: (907) 241-2208; Email: karlukiracouncil@aol.com

Organized Village of Kasaan, Paula Peterson, Tribal Administrator, P.O. Box 26-KXA, Ketchikan, AK 99950; Phone: (907) 542-2230; Fax: (907)542-3006; Email: paula@kasaan.org

Kashnumiut Tribe (see Chevak)

Kasigluk Traditional Council, Lucy Kassel, Tribal President, Lena Keene, ICWA Worker, P.O. Box 19, Kasigluk, AK 99609 Phone: (907) 477-6405/6418; Fax: (907) 477-6416

Kenaitze Indian Tribe, Donna Huntington or Kalyn Simpson, Family Case Managers, P.O. Box 988, Kenai, AK 99611; Phone: (907) 335-7243 or (907) 335-7217; Fax: (907) 335-7236; Email: dhuntington@kenaitze.org ksimpson@kenaitze.org

Ketchikan Indian Community, Pauline Sena-Edenshaw, ICWA Specialist, 2960 Tongass Ave., Ketchikan, AK 99901 Phone: (907) 228-9404; Fax: 800-865-6310 Email: psedenshaw@kictribe.org

Kiana, Native Village, Naomi Chappel, ICWA Coordinator, P.O. Box 69 Kiana, AK 99749 Phone: (907) 475-2226; Fax: (907) 475-2266; Email: icwa@katyaaq.org

King Cove (see Agdaagux)

King Island Native Community, Benjamin Payenna, Tribal Family Coordinator, P.O. Box 682 Nome, AK 99762; Phone: (907) 443-2209; Fax: (907) 443-8049; Email: tfc.ki@kawerak.org and Ms. Traci McGarry, Program Director, Kawerak, Inc. Children & Family Services, P.O. Box 948, Nome, AK 99762 Phone: (907) 443-4376/4261; Fax: (907) 443-4464/4457; Email: cfsdir@kawerak.org

King Salmon Tribe, Ralph Angasan, Jr., Tribal Administrator and Joni O'Domin, Tribal Enrollment Manager, P.O. Box 68 King Salmon, AK 99613 Phone: (907) 246-3553 (907) 246-3447; Fax: (907) 246-3449; Email: kingsalmon@kstribe.com joni@kstribe.com

Kipnuk, Native Village of Helen Paul, Community Family Services Specialist, P.O. Box 57, Kipnuk, AK 99614; Phone: (907) 896-5430; Fax: (907) 896-5704; and Cheryl Offt, ICWA Director, Association of Village Council Presidents, P.O. Box 219, Bethel, AK 99559; Phone: (907) 543-7400; Fax: (907) 543-5759; Email: cofft@avcp.org; hpaul@avcp.org

Kivalina, Native Village of, Stanley Hawley, Tribal Administrator, P.O. Box 50051, Kivalina, AK 99750; Phone: (907) 645-2201; Fax: (907) 645-2193; Email: tribeadmin@kivaliniq.org and Maniilaq Association, Family Services, P.O. Box 256, Kotzebue, AK 99752; Phone: (907) 442-7870

Klawock Cooperative Association, Family Caseworker, P.O. Box 173, Klawock, AK 99925; Phone: (907) 755-2325; Fax: (907) 755-2647

Klukwan (see Chilkat Indian Village)

Kluti- Kaah, Native Village of, Dorothy Slater, Copper Center Native Association, P.O. Box 206, Copper Center, AK 99573 Phone: (907) 822-5241; Fax: (907) 822-8800; Email: djslater@crnative.org

Knik Tribe, Geraldine Nicoli, ICWA Worker, P.O. Box 871565, Wasilla, AK 99687; Phone: (907) 373-7938; Fax: (907) 373-2153; Email: gnicoli@kniktribe.org

Kobuk, Native Village of, Tribal Administrator, P.O. Box 51039, Kobuk, AK 99751; Phone: (907) 948-2007; Fax: (907) 948-2123

Kodiak Tribal Council (see Sun'aq)

Kokhanok Village, Mary Andrew, Caseworker II, P.O. Box 1007 Kokhanok, AK 99606; Phone: (907) 282-2224; Fax: (907) 282-2221 and Bristol Bay Native Association, Children's Services Program Manager, P.O. Box 310, 1500 Kanakanak Road, Dillingham, AK 99576; Phone: (907) 842-4139; Fax: (907) 842-4106; Email: cnixon@bbna.com

Koliganek Village (see New Kolignanek)

Kongiganak, Native Village of, Janet Otto, Community Family Services Specialist, P.O. Box 5092, Kongiganak, AK 99545; Phone: (907) 557-5311; Fax: (907) 557-5348; and Cheryl Offt, ICWA Director, Association of Village Council Presidents, P.O. Box 219, Bethel, AK 99559; Phone: (907) 543-7400; Fax: (907) 543-5759; Email: cofft@avcp.org; j_otto@avcp.org

Kotlik, Native Village of, Ursula Akaran, Community Family ServicesWorker, P.O. Box 20210, Kotlik, AK 99620 Phone: (907) 899-4459 Fax: (907) 899-4202 and Cheryl Offt, ICWA Director, Association of Village Council Presidents, P.O. Box 219, Bethel, AK 99559; Phone: (907) 543-7400; Fax: (907) 543-5759; Email: cofft@avcp.org; sjenkin@avcp.org; mfredricks@avcp.org

Kotzebue, Native Village of, Clarissa Ballot, Tribal Family Resource Director, P.O. Box 296, Kotzebue, AK 99752; Phone: (907) 442-3467 Ext. 205; Fax: (907) 442-2162; Email: clarissa.ballot@qira.org

Koyuk, Native Village of, Leo M. Charles Sr. Supervisor, P.O. Box 53030, Koyuk, AK 99753; Phone: (907)963-2215; Fax: (907)963-2300; Email: lcharles@kawerak.org and Ms. Traci McGarry, Program Director, Kawerak, Inc. Children & Family Services, P.O. Box 948 Nome, AK 99762 Phone: (907) 443-4376/4261; Fax: (907) 443-4464/4457; Email: cfsdir@kawerak.org

Koyukuk, Native Village of, Sharon Pilot, Tribal Family Youth Specialist, P.O. Box 109, Koyukuk, AK 99754; Phone: (907) 927-2208; Fax: (907) 927-2220; Email: sharon.pilot@tananachiefs.org; and Tanana Chiefs Conference, Legal Department, 122 First Avenue, Suite 600 Fairbanks, AK 99701; Phone: (907) 452-8251 Ext. 3178; Fax: (907) 459-3953

Kwethluk (see Organized Village of Kwethluk)

Kwigillingok, Native Village of, Andrew Beaver, Tribal Administrator, P.O. Box 90, Kwigillingok, AK 99622; Phone: 588-8117; Fax: (907) 588-8429

Kwinhagak (aka Quinhagak), Native Village of, Grace Friendly, ICWA, P.O. Box 149, Quinhagak, AK 99655; Phone: (907) 556-8165; Fax (907) 556-8340

L

Larsen Bay, Native Village of, Cassie Hickey, ICWA Coordinator, Kodiak Area Native Association, 3449 Rezanof Drive East Kodiak, AK 99615 Phone: (907) 486-9882; Fax: (907) 486-1410; Email: cassie.hickey@kanaweb.org

Lesnoi Village (aka Woody Island), Robert Stauffer, 194 Alimaq Dr., Kodiak, AK 99615 Phone: (907) 486-9806.

Levelock Village, Ida Apokedak, President, Box 70, Levelock, AK 99625; Phone: (907) 287-3030; Fax: (907) 287-3032; Email: levelock@gci.net; and Bristol Bay Native Association, Children's Services Program Manager, P.O. Box 310, 1500 Kanakanak Road, Dillingham, AK 99576; Phone: (907) 842-4139; Fax: (907) 842-4106; Email: cnixon@bbna.com

Lime Village Traditional Council, Jennifer John, Tribal President, P.O. Box LVD- Lime Village VIA McGrath, AK 99627; Phone: (907) 526-5236; Fax: (907) 526-5235

Louden (see Galena)

Lower Kalskag, Village of, Nastasia Evan, ICWA Worker, P.O. Box 27 Lower Kalskag, AK 99626 Phone: (907) 471-2412 Fax: (907) 471-2378 and Cheryl Offt, ICWA Director, Association of Village Council Presidents, P.O. Box 219, Bethel, AK 99559; Phone: (907) 543-7400; Fax: (907) 543-5759; Email: cofft@avcp.org; sjenkins@avcp.org; mfredricks@avcp.org; nevan@avcp.org

M

Manley Hot Springs Village, Elizabeth Woods, Tribal Family Youth Specialist, P.O. Box 105 Manley Hot Springs, AK 99756; Phone: (907) 672-3177; Fax: (907) 672-3200; and Tanana Chiefs Conference, Legal Department, 122 First Avenue, Suite 600 Fairbanks, AK 99701; Phone: (907) 452-8251 Ext. 3178; Fax: (907) 459-3953

Manokotak Village, Diana Gamechuk, Caseworker I, P.O. Box 169, Manokotak, AK 99628; Phone: (907) 289-2074; Fax: (907) 289-1235 and Bristol Bay Native Association, Children's Services Program Manager, P.O. Box 310, 1500 Kanakanak Road, Dillingham, AK 99576; Phone: (907) 842-4139; Fax: (907) 842-4106; Email: cnixon@bbna.com

Marshall, Native Village of, ICWA Worker and Tribal Administrator, P.O. Box 110 Marshall, AK 99585; Phone: (907) 679-6302; Fax: (907) 676-6187 2227 and Cheryl Offt, ICWA Director, Association of Village Council Presidents, P.O. Box 219, Bethel, AK 99559; Phone: (907) 543-7400; Fax: (907) 543-5759; Email: cofft@avcp.org

Mary's Igloo, Native Village of, Dolly Kugzruk, Tribal Family Coordinator; P.O. Box 546, Teller, AK 99778; Phone: (907) 642-2185; Fax: (907) 642-2189; Email: dkugzruk@kawerak.org; and Ms. Traci McGarry, Program Director, Kawerak, Inc. Children & Family Services, P.O. Box 948 Nome, AK 99762 Phone: (907) 443-4376; Fax: (907) 443-4464; Email: cfsdir@kawerak.org

McGrath Native Village, Helen Vanderpool, Tribal Family Youth Specialist, P.O. Box 134 McGrath, AK 99672; Phone: (907) 524-3023; Fax: (907) 524-3899; Email: helenvhf@mcgrath.net; and Tanana Chiefs Conference, Legal Department, 122 First Avenue, Suite 600 Fairbanks, AK 99701; Phone: (907) 452-8251 Ext. 3178; Fax: (907) 459-3953

Mekoryuk, Native Village of, Melanie Shavings, ICWA Coordinator & Jobe Weston, Executive Director, P.O. Box 66 Mekoryuk, AK 99630; Main Phone: (907) 827-8828; ICWA Dept. Phone: (907) 827-8827; Fax: (907) 827-8133; Email: nvmicwa@gci.net

Mentasta Traditional Council, Andrea David, ICWA Worker, P.O. Box 6019, Mentasta, AK 99780; Phone: (907) 291-2319; Fax: (907) 291-2305

Metlakatla Indian Community, Craig White, Social Services Director, P.O. Box 8, Metlakatla, AK 99926; Phone: (907) 886-6914/6916; Fax: (907) 886-6913; Email: cwhite@metlakatla.com

Minto, Native Village of, Lou Ann Williams, Tribal Family Youth Specialist, P.O. Box 26087 Minto, AK 99758; Phone: (907) 798-7007; Fax: (907) 798-7008; Email: lou.williams@tananachiefs.org; and Tanana Chiefs Conference, Legal Department, 122 First Avenue, Suite 600 Fairbanks, AK 99701; Phone: (907) 452-8251 Ext. 3178; Fax: (907) 459-3953

Mountain Village (see Asa'carsarmiut)

N

Naknek Native Village, Donna Mae Williams, ICWA Worker & Tribal Administrator, P.O. Box 210, Naknek, AK 99633; Phone: (907) 246-4210; Fax: (907) 246-3563; Email: naknek.icwa@aol.com

Nanwalek, Native Village of, Alma Moonin, ICWA Advocate, P.O. Box 8028, Nanwalek, AK 99603; Phone: (907) 281-2307; Fax: (907)281-2252.

Napaimute, Native Village of, Sarah Jenkins, and Cheryl Offt, ICWA Director, Association of Village Council Presidents, P.O. Box 219, Bethel, AK 99559; Phone: (907) 543-7400; Fax: (907) 543-5759; Email: sjenkins@avcp.org; mfredricks@avcp.org; cofft@avcp.org

Napakiak, Native Village of, Julia Andrew, Tribal Administrator, P. O. Box 34114 Napakiak, AK 99634; Phone: (907) 589-2815; Fax: (907) 589-2814; Email: choward@avcp.org and Cheryl Offt, ICWA Director, Association of Village Council Presidents, P.O. Box 219, Bethel, AK 99559; Phone: (907) 543-7400; Fax: (907) 543-5759; Email: cofft@avcp.org

Napaskiak, Native Village of, Elizabeth Steven, ICWA Worker, P.O. Box 6009 Napaskiak, AK 99559; Phone: (907) 737-7364; Fax: (907) 737-7039 Email: sjenkins@avcp.org; mfredricks@avcp.org and Cheryl Offt, ICWA Director, Association of Village Council Presidents, P.O. Box 219, Bethel, AK 99559; Phone: (907) 543-7400; Fax: (907) 543-5759; Email: cofft@avcp.org

Nelson Lagoon, Native Village of, Tara Bourdukofsky, M.S., Human Services Director, Aleutian/Pribilof Islands Association, 1131 East International Airport Road, Anchorage, AK 99518-1408; Phone: (907) 276-2700 Fax: (907) 279-4351, Email: taralb@apiai.org

Nenana Native Association, Jo Noble, Tribal Administrator, P.O. Box 369, Nenana, AK 99760; Phone: (907) 832-5461; Fax: (907) 832-5447; and Tanana Chiefs Conference, Legal Department, 122 First Avenue, Suite 600 Fairbanks, AK 99701; Phone: (907) 452-8251 Ext. 3178; Fax: (907) 459-3953

New Koliganek Village Council, Herman Nelson, President, P.O. Box 5057, Koliganek, AK 99576; Phone: (907) 596-3434; Fax: (907) 596-3462 and Bristol Bay Native Association, Children's Services Program Manager, P.O. Box 310, 1500 Kanakanak Road, Dillingham, AK 99576; Phone: (907) 842-4139; Fax: (907) 842-4106; Email: cnixon@bbna.com

New Stuyahok Village, Bristol Bay Native Association, Cynthia Nixon, Children's Services Program Manager, P.O. Box 310, 1500 Kanakanak Road, Dillingham, AK 99576; Phone: (907)842-4139; Fax: (907)842-4106; Email: cnixon@bbna.com.

Newhalen Village, Maxine Wassillie, ICWA Worker; P.O. Box 207, Newhalen, AK 99606; Phone: (907) 571-1410; Fax: (907) 571-1537.

Newtok Village, Walter Kassaiuli, Vice-President, P.O. Box 5545 Newtok, AK 99559; Phone: (907) 237-2314; Fax: (907) 237-2428; Email: newtoktc@gci.net.

Nightmute, Native Village of, Sarah Jenkins, and Cheryl Offt, ICWA Director, Association of Village Council Presidents, P.O. Box 219, Bethel, AK 99559; Phone: (907) 543-7400; Fax: (907) 543-5759; Email: sjenkins@avcp.org; mfredricks@avcp.org; cofft@avcp.org

Nikolai Village (Edzeno'), Balassa Alexie, Tribal Administrator, P.O. Box 9107 Nikolai, AK 99691; Phone: (907) 293-2210; Fax: (907) 293-2216; and Tanana Chiefs Conference, Legal Department, 122 First Avenue, Suite 600 Fairbanks, AK 99701; Phone: (907) 452-8251 Ext. 3178; Fax: (907) 459-3953

Nikolski, Native Village, Tara Bourdukofsky, M.S., Human Services Director, Aleutian/Pribilof Islands Association, 1131 East International Airport Road, Anchorage, AK 99518-1408; Phone: (907) 276-2700; Fax: (907) 279-4351, Email: taralb@apiai.org

Ninilchik Village, Bettyann Steciw, ICWA Specialist, P.O. Box 39444, Ninilchik, AK 99639; Phone: (907) 567-3313; Fax: (907) 567-3354; Email: bettyann@ninilchiktribe-nsn.gov

Noatak, Native Village of, Audrey Arey, ICWA Coordinator, P.O. Box 89 Noatak, AK 99761; Phone: (907) 485-2173; Fax: (907) 485-2137; Email: icwa@nautaaq.org

Nome Eskimo Community, Lola Stepetin, Family Services Director, 3600 San Jeronimo, Suite 138, Anchorage, AK 99508; Phone: (907) 793-3145; Fax: (907) 793-3127; Email: lstepetin@gci.net

Nondalton Village, Susan Bobby, Social Service/ICWA Worker P.O. Box 49 Nondalton, AK 99640; Phone: (907) 294-2257; Fax: (907) 294-2271.

Noorvik Native Community, ICWA Coordinator, P.O. Box 209 Noorvik, AK 99763 Phone: (907) 636-2144; Fax: (907) 636-2284; and Maniilaq Association, Family Services, P.O. Box 256, Kotzebue, AK 99752; Phone: (907) 442-7870

Northway Village, Tasha Demit, ICWA Worker, P.O. Box 516, Northway, AK 99764; Phone: (907)778-2311; Fax: (907) 778-2220.

Nuiqsut, Native Village of, Maude Hopson, ICWA Coordinator, Social Services Department, Arctic Slope Native Association, Ltd., P.O. Box 1232, Barrow, AK 99723; Phone: (907) 852-9374; Fax: (907) 852-9152; Email: maude.hopson@arcticslope.org

Nulato Village, Brittany Smith, Director of Human Services, P.O. Box 65049, Nulato, AK 99765 Phone: (907) 898-2329; Fax: (907) 898-2296; Email: paul.mountain@tananachiefs.org

Nunakauyarmiut Tribe (formerly Toksook Bay Native Village), Tribal Administrator and Marcella White, ICWA Worker, P.O. Box 37048, Toksook Bay, AK 99637; Phone: (907) 427-7114/7615; Fax: (907) 427-7714

Nunam Iqua (formerly Sheldon's Point), Sarah Jenkins and Cheryl Offt, ICWA Director, Association of Village Council Presidents, P.O. Box 219, Bethel, AK 99559; Phone: (907) 543-7400; Fax: (907) 543-5759; Email: sjenkins@avcp.org; mfredricks@avcp.org; cofft@avcp.org

Nunapitchuk, Native Village of, Aldine Simon, Community Family Service Specialist, P.O. Box 104 Nunapitchuk, AK 99641; Phone: (907) 527-5731; Fax: (907) 527-5740; Email: icwa@yupik.org

O

Ohagamiut, Village of, Gabriel Evan, Tribal Administration, P.O. Box 49, Marshall, AK 99585; Phone: (907) 679-6517/6598; Fax: (907) 679-6516; Email: gabe@ohogtc.org

Old Harbor Tribal Council, Bobbi Anne Barnowsky, Tribal Administrator; Jim Cedeno, ICWA Worker, P.O. Box 62, Old Harbor, AK 99643 Phone: (907) 286-2215; Fax: (907) 286-2350; Email: jim.cedeno@ohtcmail.org; bobbi.barnowsky@ohtcmail.org

Organized Village of Kwethluk, Chariton Epchook, ICWA Coordinator, P.O. Box 130 Kwethluk, AK 99621-0130; Phone: (907) 757-6714/6715; Fax: (907) 757-6328

Organized Village of Saxman, Family Caseworker or Tribal Administrator, Route 2, Box 2, Ketchikan, AK 99901; Phone: (907) 247-2502; Fax: (907) 247-2504

Orutsararmuit Native Village, Marilyn Johnston, ICWA Program, P.O. Box 971, Bethel, AK 99559 Phone: (907) 543-2608; Fax: (907) 543-2639; Email: mjohnston@nativecouncil.org

Oscarville Traditional Village, Andrew J. Larson Jr., Community Family Services Specialist, P.O. Box 6129, Oscarville, AK 99559; Phone: (907) 737-7100; Fax: (907) 737-7101; and Cheryl Offt, ICWA Director, Association of Village Council Presidents, P.O. Box 219, Bethel, AK 99559; Phone: (907) 543-7400; Fax: (907) 543-5759; Email: cofft@avcp.org

Ouzinkie, Native Village of, Robert Katelnikoff, Tribal Administrator, P.O. Box 130, Ouzinkie, AK 99644; Phone (907) 680-2259; Fax: (907) 680-2359; and Cassie Hickey, ICWA Coordinator, Kodiak Area Native Association, 3449 Rezanof Drive East Kodiak, AK 99615 Phone: (907) 486-9882; Fax: (907) 486-1410; Email: cassie.hickey@kanaweb.org

P

Paimiut, Native Village of, Tribal President or Tribal Administrator, P.O. Box 230, Hooper Bay, AK 99604; Phone: (907) 758-4002; Fax: (907) 758-4024

Pauloff Harbor Village, Tara Bourdukofsky, M.S., Human Services Director, Aleutian/Pribilof Islands Association, 1131 East International Airport Road, Anchorage, AK 99518-1408; Phone: (907) 276-2700; Fax: (907) 279-4351, Email: taralb@apiai.org

Pedro Bay Village, Verna Kolyaha, Program Specialist, P.O. Box 47020, Pedro Bay, AK 99647 Phone: (907) 850-2341; Fax: (907) 850-2221

Perryville, Native Village of, Bernice O'Domin, Case Manager II (ICWA), P.O. Box 97, Perryville, AK 99648; Phone: (907) 853-2242; Fax: (907) 853-2229; and Bristol Bay Native Association, Children's Services Program Manager, P.O. Box 310, 1500 Kanakanak Road, Dillingham, AK 99576; Phone: (907) 842-4139; Fax: (907) 842-4106; Email: cnixon@bbna.com

Petersburg Indian Association, Jeanette Ness, Caseworker, P.O. Box 1410 Petersburg, AK 99833 Phone: (907) 772-3637; Fax: (907) 772-3686 Email: jeanetteness@piatribal.org

Pilot Point, Native Village of, Suzanne Evanoff, Village Administrator, P.O. Box 449, Pilot Point, AK 99649; Phone: (907) 797-2208; Fax: (907) 797-2258 and Bristol Bay Native Association, Children's Services Program Manager, P.O. Box 310, 1500 Kanakanak Road, Dillingham, AK 99576; Phone: (907) 842-4139; Fax: (907) 842-4106; Email: cnixon@bbna.com

Pilot Station Traditional Village, Olga Xavier, Community Family Services Specialist, P.O. Box 5119, Pilot Station, AK 99650; Phone: (907) 549-3550; Fax: (907) 549-3551; and Cheryl Offt, ICWA Director, Association of Village Council Presidents, P.O. Box 219, Bethel, AK 99559; Phone: (907) 543-7400; Fax: (907) 543-5759; Email: cofft@avcp.org; oxavier@avcp.org

Pitka's Point, Native Village of, Tribal Administrator, P.O. Box 8 Platinum, AK 99651 and Cheryl Offt, ICWA Director, Association of Village Council Presidents, P.O. Box 219, Bethel, AK 99559; Phone: (907) 543-7400; Fax: (907) 543-5759; Email: sjenkins@avcp.org; mfredricks@avcp.org; cofft@avcp.org

Platinum Traditional Village, Tribal Administrator, P.O. Box 8 Platinum, AK 99651; Phone: (907) 979-8220; Fax: (907) 979-8178 and Cheryl Offt, ICWA Director, Association of Village Council Presidents, P.O. Box 219, Bethel, AK 99559; Phone: (907) 543-7400; Fax: (907) 543-5759; Email: cofft@avcp.org; sjenkins@avcp.org; mfredricks@avcp.org

Point Hope, Native Village, Martha Douglas, Family Caseworker, P.O. Box 109 Point Hope, AK 99766; Phone: (907) 368-3122; Fax: (907) 368-2332; Email: martha.douglas@tikigaq.org

Point Lay, Native Village, Social Services Director, Inupiat Community of the Arctic Slope, P.O. Box 934, Barrow, AK 99723, Phone: (907) 852-5923; Fax: (907) 852-5924; Email: social@inupiatgov.com

Port Graham, Native Village, Patrick Norman, Chief, and James Miller, ICWA Representative, P.O. Box 5510 Port Graham, AK 99603; Phone: (907) 284-2227; Fax: (907) 284-2222

Port Heiden, Native Village, (Native Council of Port Heiden), Larissa Orloff, Tribal Children Service Worker, P.O. Box 49007, Port Heiden, AK 99549; Phone: (907) 837-2291/2296; Fax: (907) 837-2297; Email: gkosbruk@starband.net

Port Lions, Native Village, Susan Boskofsky, Tribal Administrator and Yvonne Mullan, Tribal Services Coordinator, P.O. Box 69, Port Lions, AK 99550; Phone: (907) 454-2234; Fax: (907) 454-2434;

Portage Creek Village (aka Ohgensakale), Eva Kapotak, Caseworker, 1327 E. 72nd Ave., Unit B, Anchorage, AK 99518; Phone: (907) 277-1105; Fax: (907) 277-1104 and Bristol Bay Native Association, Children's Services Program Manager, P.O. Box 310, 1500 Kanakanak Road, Dillingham, AK 99576; Phone: (907) 842-4139; Fax: (907) 842-4106; Email: cnixon@bbna.com

Q

Qagan Tayaguyngin Tribe of Sand Point Village, Tara Bourdukofsky, M.S., Human Services Director, Aleutian/Pribilof Islands Association, 1131 East International Airport Road, Anchorage, AK 99518-1408; Phone: (907) 276-2700; Toll-Free: 1-800-478-2742; Fax: (907) 279-4351, Email: taralb@apiai.org

Qawalangin Tribe of Unalaska, Tara Bourdukofsky, M.S., Human Services Director, Aleutian/Pribilof Islands Association, 1131 East International Airport Road, Anchorage, AK 99518-1408; Phone: (907) 276-2700; Fax: (907) 279-4351, Email: taralb@apiai.org

Quinhagak (see Kwinhagak)

Qissunaimut Tribe (see Chevak)

R

Rampart Village, Tribal Administrator, P.O. Box 29 Rampart, AK 99767; Phone: (907) 358-3312; Fax: (907) 358-3115; and Tanana Chiefs Conference, Legal Department, 122 First Avenue, Suite 600 Fairbanks, AK 99701; Phone: (907) 452-8251 Ext. 3178; Fax: (907) 459-3953

Red Devil Village, Tribal Administrator, P.O. Box 8 Platinum, AK 99651; and Cheryl Offt, ICWA Director, Association of Village Council Presidents, P.O. Box 219, Bethel, AK 99559; Phone: (907) 543-7400; Fax: (907) 543-5759; Email: sjenkins@avcp.org; mfredricks@avcp.org; cofft@avcp.org

Ruby, Native Village of, Elaine Wright, Tribal Family Youth Specialist, P.O. Box 68117 Ruby, AK 99768; Phone: (907) 468-4400; Fax: (907) 468-4500; and Tanana Chiefs Conference, Legal Department, 122 First Avenue, Suite 600 Fairbanks, AK 99701; Phone: (907) 452-8251 Ext. 3178; Fax: (907) 459-3953

Russian Mission (see Iqurmuit Traditional Council)

S

Saint George Island, Native Village of, Tara Bourdukofsky, M.S., Human Services Director, Aleutian/Pribilof Islands Association, 1131 East International Airport Road, Anchorage, AK 99518-1408; Phone: (907) 276-2700; Fax: (907) 279-4351, Email: taralb@apiai.org

Saint Michael (see St. Michael)

Salamatoff, Village of, Jeannine Vasillie or Donna Huntington, ICWA Workers, Kenaitze Indian Tribe, P.O. Box 988, Kenai, AK 99611; Phone: (907) 335-7200; Fax: (907) 335-7236; Email: jvasillie@kenaitze.org; dhuntington@kenaitze.org

Sand Point (see Qagan Tayaguyngin Tribe of Sand Point Village)

Savoonga, Native Village of, Ruthie Okoomealingok, Tribal Family Coordinator, P.O. Box 34 Savoonga, AK 99769; Phone: (907) 984-6758; Fax: (907) 984-6759 and Ms. Traci McGarry, Program Director, Kawerak, Inc. Children & Family Services, P.O. Box 948 Nome, AK 99762; Phone: (907) 443-4376/4261; Fax: (907) 443-4464/4457; Email: cfsdir@kawerak.org; tfc.sva@kawerak.org

Saxman (see Organized Village of Saxman)

Scammon Bay, Native Village of, Michelle Akerealrea, Community Family Services Specialist, P.O. Box 110, Scammon Bay, AK 99662; Phone: (907) 558-5078; Fax: (907) 558-5079; and Cheryl Offt, ICWA Director, Association of Village Council Presidents, P.O. Box 219, Bethel, AK 99559; Phone: (907) 543-7400; Fax: (907) 543-5759; Email: cofft@avcp.org; makerelrea@avcp.org

Selawik, Native Village of, Jessie Hingsbergen, ICWA Coordinator, P.O. Box 59, Selawik, AK 99770; Phone: (907) 484-2165 Ext. 12; Fax: (907) 424-2001; Email: icwa@akuligaq.org and Maniilaq Association, Family Services, P.O. Box 256, Kotzebue, AK 99752; Phone: (907) 442-7870

Seldovia Village Tribe Laurel Hilts, ICWA Representative, P.O. Drawer L, Seldovia, AK 99663 Phone: (907) 234-7898 or (907) 435-3252; Fax: (907) 234-7865; Email: svt@svt.org or lhilts@svt.org

Shageluk Native Village, Sheila Workman, Tribal Family Youth Specialist, P.O. Box 69, Shageluk, AK 99665; Phone: (907) 473-8229; Fax: (907) 473-8275; and Tanana Chiefs Conference, Legal Department, 122 First Avenue, Suite 600 Fairbanks, AK 99701; Phone: (907) 452-8251 Ext. 3178; Fax: (907) 459-3953

Shaktoolik, Native Village, Gail L. Evan, Tribal Family Coordinator, P.O. Box 100, Shaktoolik, AK 99771; Phone: (907) 955-2444; Fax: (907) 955-2443; and Ms. Traci McGarry, Program Director, Kawerak, Inc. Children & Family Services, P.O. Box 948 Nome, AK 99762; Phone: (907) 443-4376/4261; Fax: (907) 443-4464/4457; Email: cfsdir@kawerak.org; tfc.skk@kawerak.org

Sheldon's Point (see Nunam Iqua)

Shishmaref, Native Village of, Karla Nayokpuk, Tribal Family Coordinator, P.O. Box 72110, Shishmaref, AK 99772; Phone: (907) 649-3078; Fax: (907) 649-2278; and Ms. Traci McGarry, Program Director, Kawerak, Inc. Children & Family Services, P.O. Box 948 Nome, AK 99762; Phone: (907) 443-4376/4261; Fax: (907) 443-4464/4457; Email: cfsdir@kawerak.org; knayokpuk@kawerak.org

Shungnak, Native Village of, Sally Custer, ICWA Worker, P.O. Box 64 Shungnak, AK 99773 Phone: (907) 432-2138; Fax: (907) 437-2183; Email: sally.custer@maniilaq.org and Maniilaq Association, Family Services, P.O. Box 256, Kotzebue, AK 99752; Phone: (907) 442-7870

Sitka Tribe of Alaska, Glade Morales, Social Services Director Mindy Lowrance, ICWA Caseworker,, 456 Katlian Street, Sitka, AK 99835; Phone: (907) 747-7293 & (907) 747-3207; Fax: (907) 747-7643; Email: mindy.lowrance@sitkatribe-nsn.gov; glade.morales@sitkatribe-nsn.gov

Skagway Village, Delia Commander, Tribal President/Administrator, P.O. Box 1157, Skagway, AK 99840-1157; Phone: (907) 983-4068; Fax: (907) 983-3068 Email: dcommander@skagwaytraditonal.org

Sleetmute, Village of, Cheryl Mellick, ICWA Worker, P.O. Box 109, Sleetmute, AK 99668 Phone: (907) 449-4263; Fax: (907) 449-4265

Solomon, Native Village of, Elizabeth Johnson, Tribal Coordinator, P.O. Box 2053, Nome, AK 99762; Phone: (907) 443-4985; Fax: (907) 443-5189; Email: tc.sol@kawerak.org

South Naknek Village, Lorianne Rawson, Tribal Administrator, 1830 E. Parks Highway, Ste. A113, PMB 388, Wasilla, AK 99654; Phone: (907) 631-3648; Fax: (907) 631-0949 and Bristol Bay Native Association, Children's Services Program Manager, P.O. Box 310, 1500 Kanakanak Road, Dillingham, AK 99576; Phone: (907) 842-4139; Fax: (907) 842-4106; Email: cnixon@bbna.com

St. Mary's (see Algaaciq)

St. Mary's Igloo (see Teller)

St. George (see Saint George)

St. Michael, Native Village of, Shirley Martin, Tribal Family Coordinator, P.O. Box 59050, St. Michael, AK 99659; Phone: (907) 923-2546; Fax: (907) 923-2474; and Ms. Traci McGarry, Program Director, Kawerak, Inc. Children & Family Services, P.O. Box 948 Nome, AK 99762 Phone: (907) 443-4376/4261; Fax: (907) 443-4464/4457; Email: cfsdir@kawerak.org; tfc.smk@kawerak.org

St. Paul, Charlene Naulty, MS, Department of Health and Human Services, 1500 W. 33rd Street, Suite 100 Anchorage, AK 99503; and P.O. Box 86 St. Paul Island, AK 99660; Phone: (907) 762-8426; Fax: (907) 770-0540 & (907) 546-3254; Email: cjnaluty@aleu.com

Stebbins Community Association, Anna Nashoanak, Tribal Family Coordinator, P.O. Box 71002, Stebbins, AK 99671, Phone: (907) 934-2334; Fax: (907) 934-2675; Email: a.nashoanak@kawerak.org; tfc.wbb@kawerak.org and Ms. Traci McGarry, Program Director, Kawerak, Inc. Children & Family Services, P.O. Box 948, Nome, AK 99762; Phone: (907) 443-4376/4261; Fax: (907) 443-4464/4457; Email: cfsdir@kawerak.org

Stevens, Native Village of, Harold Simon, 1st Chief, P.O. Box 74016, Stevens Village, AK 99774; Phone: (907) 478-7228; Fax: (907) 478-7229. Cheryl Mayo-Kriska, Indian Child Welfare Case Manager.

Stony River, Village of, Tribal Administrator, P.O Box SRV, Stony River, AK 99557 and ICWA Director, Association of Village Council Presidents, P.O. Box 219, Bethel, AK 99559; Phone: (907) 543-7400; Fax: (907) 543-5759; Email: sjenkins@avcp.org; mfredricks@avcp.org

Sun'aq Tribe of Kodiak, Linda Resoff, Social Services Director, 312 West Marine Way, Kodiak, AK 99615 Phone: (907) 486-4449; Fax: (907) 486-3361; Email: socialservices@sunaq.org

T

Takotna Village, Janice Newton, P.O. Box 7529, Takotna, AK 99675; Phone: (907) 298-2212; Fax: (907) 298-2314; and Tanana Chiefs Conference, Legal Department, 122 First Avenue, Suite 600, Fairbanks, AK 99701; Phone: (907) 452-8251 Ext. 3178; Fax: (907) 459-3953

Tanacross, Native Village of, Colleen Denny, Tribal Family Youth Specialist, P.O. Box 76009, Tanacross, AK 99776; Phone: (907) 883-5024; Fax: (907) 883-4497; and Tanana Chiefs Conference, Legal Department, 122 First Avenue, Suite 600, Fairbanks, AK 99701; Phone: (907) 452-8251; Ext. 3178; Fax: (907) 459-3953

Tanana, Native Village of, Donna May Folger, ICWA Worker, Box 130, Tanana, AK 99777; Phone: (907) 366-7170; Fax: (907) 366-7246; and Tanana Chiefs Conference, Legal Department, 122 First Avenue, Suite 600, Fairbanks, AK 99701; Phone: (907) 452-8251, Ext. 3178; Fax: (907) 459-3953

Tatitlek, Native Village of, Victoria Vlasoff, Administrator, P.O. Box 171, Tatitlek, AK 99677; Phone: (907) 325-2311; Fax: (907) 325-2298

Tazlina, Native Village of, Marce Simeon, ICWA Coordinator, P.O. Box 87, Glennallen, AK 99588; Phone: (907) 822-4375; Fax: (907) 822-5865; Email: marce@cvinternet.net

Telida Village, Josephine Royal, Tribal Administrator/Tribal Family Youth Specialist, P.O. Box 84771, Fairbanks, AK 99708; Phone: (907) 864-0629; Fax: (907) 376-3540; and Tanana Chiefs Conference, Legal Department, 122 First Avenue, Suite 600, Fairbanks, AK 99701; Phone: (907) 452-8251 Ext. 3178; Fax: (907) 459-3953

Teller, Native Village of, Dolly Kugzruk, Tribal Family Coordinator; P.O. Box 546, Teller, AK 99778; Phone: (907) 642-2185; Fax: (907) 642-2189; and Ms. Traci McGarry, Program Director, Kawerak, Inc. Children & Family Services, P.O. Box 948, Nome, AK 99762 Phone: (907) 443-4376; Fax: (907) 443-4464; Email: cfsdir@kawerak.org; dkugzruk@kawerak.org

Tetlin, Native Village of, Nettie Warbelow, Tribal Family Youth Specialist, 2763 Mack Blvd. Apt. 2, Fairbanks, AK 99709; Phone: (907) 378-3608; Fax: N/A; and Tanana Chiefs Conference, Legal Department, 122 First Avenue, Suite 600, Fairbanks, AK 99701; Phone: (907) 452-8251 Ext. 3178; Fax: (907) 459-3953

Tlingit & Haida Indian Tribes of Alaska (see Central Council Tlingit and Haida Tribes)

Togiak, Traditional Council of, Tribal Administrator and Emma Wasillie, ICWA Worker, P.O. Box 310, Togiak, AK 99678; Phone: (907) 493-5003; Fax: (907) 493-5005; Email: tuyuryak@starband.net; and Bristol Bay Native Association, Children's Services Program Manager, P.O. Box 310, 1500 Kanakanak Road, Dillingham, AK 99576; Phone: (907) 842-4139; Fax: (907) 842-4106; Email: cnixon@bbna.com

Toksook Bay (see Nunakauyarmiut Tribe)

Tuluksak Native Community, Agatha Fly, Community Family Services Specialist, P.O. Box 93, Tuluksak, AK 99679; Phone: (907) 695-6902; Fax: (907) 695-6903; Email: sjenkins@avcp.org; mfredricks@avcp.org and Cheryl Offt, ICWA Director, Association of Village Council Presidents, P.O. Box 219, Bethel, AK 99559; Phone: (907) 543-7400; Fax: (907) 543-5759; Email: cofft@avcp.org

Tuntutuliak, Native Village of, Samantha White, Community Family Services Specialist, P.O. Box 8086, Tuntutuliak, AK 99680; Phone: (907) 256-2311; Fax: (907) 256-2080; and Cheryl Offt, ICWA Director, Association of Village Council Presidents, P.O. Box 219, Bethel, AK 99559; Phone: (907) 543-7400; Fax: (907) 543-5759; Email: cofft@avcp.org swhite1@avcp.org;

Tununak, Native Village of, Richard Lincoln III, Community Family Services Specialist, P.O. Box 77, Tununak, AK 99681; Phone: (907) 652-6220; Fax: (907) 652-6011; and Cheryl Offt, ICWA Director, Association of Village Council Presidents, P.O. Box 219, Bethel, AK 99559; Phone: 907 543-7400; Fax: (907) 543-5759; Email: cofft@avcp.org; rlincoln@avcp.org

Twin Hills Village, John W. Sharp, President, P.O. Box TWA, Twin Hills, AK 99576; Phone: (907) 525-4821; Fax: (907) 525-4822; and Bristol Bay Native Association, Children's Services Program Manager, P.O. Box 310, 1500 Kanakanak Road, Dillingham, AK 99576; Phone: (907) 842-4139; Fax: (907) 842-4106; Email: cnixon@bbna.com; william15@starband.net

Tyonek, Native Village of, Frank Standifer, III, Tribal President and Arthur Standifer, ICWA Worker, P.O. Box 82009, Tyonek, AK 99682-0009; Phone: 907 227-3574; Fax: (907) 583-2442; Email: arthur_S@tyonek.net

U

Ugashik Village, Irma Joyce Rhodes King, ICWA Worker, 2525 Blueberry Road, Suite 205, Anchorage, AK 99503; Phone: (907) 338-7611; Fax: (907) 338-7659; Email: icwa@ugashikvillage.com

Umkumiut Native Village, Joseph Tony, Council President, P.O. Box 90062, Nightmute, AK; Phone: (907) 647-6145; Fax: (907) 647-6146

Unalakleet, Native Village of, Marie Ivanoff, Tribal Family Coordinator, P.O. Box 270, Unalakleet, AK 99684; Phone: (907) 624-3526; Fax: (907) 624-5104; and Ms. Traci McGarry, Program Director, Kawerak, Inc. Children & Family Services, P.O. Box 948, Nome, AK 99762; Phone: (907) 443-4376/4261; Fax: (907) 443-4464/4457; Email: cfsdir@kawerak.org; tfc.unk@kawerak.org;

Unalaska (see Qawalangin Tribe of Unalaska)

Unga, Native Village of, Tara Bourdukofsky, M.S., Human Services Director, Aleutian/Pribilof Islands Association, 1131 East International Airport Road, Anchorage, AK 99518-1408; Phone: (907) 276-2700; Fax: (907) 279-4351, Email: taralb@apiai.org

Upper Kalskag Native Village (see Kalskag),

V

Village of Venetie, Larry Williams, Tribal Family Youth Specialist, P.O. Box 119, Venetie, AK 99781; Phone: (907) 849-8212; Fax: (907) 849-8149/8216; and Tanana Chiefs Conference, Legal Department, 122 First Avenue, Suite 600, Fairbanks, AK 99701; Phone: (907) 452-8251 Ext. 3178; Fax: (907) 459-3953

W

Village of Wainwright, Maude Hopson, ICWA Coordinator, Social Services Department, Arctic Slope Native Association, Ltd., P.O. Box 1232, Barrow, AK 99723; Phone: (907) 852-9374; Fax: (907) 852-9152; Email: maude.hopson@arcticslope.org

Wales, Native Village of, Linda Divers, Tribal Family Coordinator, P.O. Box 85039, Brevig Mission, AK 99785; Phone: (907) 642-3012 Fax: (907) 642-3042; Email: linda@kawerak.org

White Mountain, Native Village of, Carol Smith, Tribal Family Coordinator, P.O. Box 549, White Mountain, AK 99784; Phone: (907) 638-2008; Fax: (907) 638-2009; Email: tfc.wmo@kawerak.org

Woody Island (see Lesnoi Village)

Wrangell Cooperative Association, Elizabeth Newman, Family Caseworker II, P.O. Box 1198, Wrangell, AK 99929; Phone: (907) 874-3482; Fax: (907) 874-2982 Email: bnewman@ccthita.org

Y

Yakutat Tlingit Tribe, Gloria A. Benson, ICWA Director, P.O. Box 387, Yakutat, AK 99689; Phone: (907) 784-3368; Fax: (907) 784-3664; Email: gbenson@ytttribe.org

Yupiit of Andreafski, Geraldine Beans, ICWA Director, P.O. Box 88, St. Mary's, AK 99658; Phone: (907) 438-2572; Fax: (907) 438-2573

2. Eastern Region

Eastern Region Director, 545 Marriott Drive, Suite 700, Nashville, TN 37214; Telephone: (615) 564-6500; Fax: (615) 564-5701

A

Aroostook Band of Micmac Indians, Tania M. Morey Paul, Child Welfare Director, 7 Northern Road, Presque Isle, Maine 04769; Telephone: (207) 764-1972; Fax: (207) 764-7667; Email: tmorey@micmac-nsn.gov

C

Catawba Indian Nation, Carla Hudson, ICWA Representative and Linda Love, MSW, LMSW, Social Services Director, Catawba Indian Nation, 996 Avenue of Nations, Rock Hill, South Carolina 29730; Telephone: (803) 366-4792 Ext: 245; Fax: (803) 325-1242; Email: carla.hudson@catwbaindian.net and linda.love@catawbaindian.net

Cayuga Nation of New York, Sharon Leroy, Assistant Administration, P.O. Box 803, Seneca Falls, NY 13148, Phone: (315) 568-0750, Fax: (315) 568-0752, Email: sharon.leroy@nsncayuganation-nsn.gov

Chitimacha Tribe of Louisiana, Karen Matthews, MSW, LMSW, Director of Health & Human Services, P.O. Box 520, Charenton, LA 70523; Telephone: (337) 923-7000; (337) 923-9955 (Health Clinic), Fax: (337) 923-2475

Coushatta Tribe of Louisiana, Milton Hebert, MSW, CADC, CGAC, Social Service Director, 2003 CC Bel Road, Elton, LA 70532; Telephone: (337) 584-1439; Fax: (337) 584-1473; Email: mhebert@coushattatribela.org

E

Eastern Band of Cherokee Indians, Barbara Jones, Program Manager, 134 Boys Club Loop, P.O. Box 666, Cherokee, NC 28719; Telephone: (828) 497-6092; Fax: (828) 497-3322; Email: barbjone@nc-cherokee.com

H

Houlton Band of Maliseet Indians, Tiffany Randall, ICWA Director, 13-2 Clover Court, Houlton, ME 04730; Telephone: (207) 694-0213; Fax: (207) 532-7287; Email: icwa.director@maliseets.com

J

Jena Band of Choctaw Indians, Mona Maxwell, Social Services Director, P.O. Box 14, Jena, LA 71342; Telephone: (318) 992-0136; Cell: (318) 419-8432; Fax: (318) 992-4162

M

Mashantucket Pequot Tribal Nation, Valerie Burgess, Director Child Protective Services, 102 Muhshee Mahchaq, P.O. Box 3313, Mashantucket, CT 06338; Telephone: (860) 396-2007; Fax: (860) 396-2144; Email: vburgess@mptn-nsn.gov

Mashpee Wampanoag Tribe, Catherine Hendricks, Director, ICWA & Human and Social Services, 483 Great Neck Road, South Mashpee, MA 02649; Phone: (508) 419-6017 Ext: 604; Cell: (774) 255-0119-604; Fax: (508) 477-1652; Email: catherinehendricks@mwtribe.com

Miccosukee Tribe of Indians of Florida, Colley Billie, Tribal Chairman, P.O. Box 440021, Miami, FL 33144; Telephone: (305) 223-8380 Ext. 2377/2386; Fax: (305) 223-1011; Email: Patriciak@miccosukeetribe.com or Hopel@miccosukeetribe.com

Mississippi Band of Choctaw Indians, Kirsten L. Clegg, Child Welfare Supervisor, Department of Family & Community Services, Children & Family Services Program; P.O. Box 6050, Choctaw, MS 39350; Telephone: (601) 650-1741; Fax: (601) 656-8817; Email: kirstin.clegg@choctaw.org

Mohegan Indian Tribe, Irene Miller, APRN, Director, Family Services, 5 Crow Hill Road, Uncasville, CT 06382; Telephone: (860) 862-6236; Fax: (860) 862-6324

N

Narragansett Indian Tribe, Wenonah Harris, Director, Tribal Child and Family Services, 4375B South County Trail or P.O. Box 268, Charlestown, RI 02813; Telephone: (401) 364-1100 Ext: 233; Cell: (401) 862-8863; Fax: (401) 364-1104: Email: Wenonah@nithpo.com

O

Oneida Indian Nation, Kim Jacobs, Nation Clerk, Box 1 Vernon, NY 13476; Telephone: (315) 829-8337; Fax: (315) 829-8392; Email: kjacobs@oneida.nation.org

Onondaga Nation of New York, Mr. Laverne Lyons, 104 W. Conklin Ave, Nedrow, NY 13120; Phone: (315) 469-9196; Fax: (315) 469-3250; Email: lglyons@syr.edu

P

Passamaquoddy Indian Township, Dolly Barnes, LCSW, Director Child and Family Services, P.O. Box 301, Princeton, ME 04668; Telephone: (207) 796-6134; Fax: (207) 796-5606

Passamaquoddy Tribe-Pleasant Point, Molly Newell, Sipayik, Human Services Director, P.O. Box 343 Perry, ME 04667, Telephone: (207) 853-2600 Ext: 258; Fax: (207) 853-9618; Email: molly@wabanaki.com

Penobscot Indian Nation of Maine, Sonya LaCoute-Dana, Director of Social Services, P.O. Box 446, Old Town, ME 04468; Telephone: (207) 817-3164; Fax: (207) 817-3166; Email: Sonya.lacoute-dana@penobscotnation.org

Poarch Band of Creek Indians, Martha Gookin, Family Services Director, 5811 Jack Springs Rd., Atmore, AL 36502; Telephone: (251) 368-9136 Ext. 2600; Fax: (251) 368-0828; Email: mgookin@pci-nsn.gov

S

Saint Regis Mohawk Tribe, Haley Cree, ICWA program Coordinator, 412 State, Route 37, Akwesasne, NY 13655; Telephone: (518) 358-2728; Fax: (518) 358-9258; Email: haley.cree@srmt-msn.gov

Seminole Tribe of Florida, Kristi Hill, Family Preservation Administrator, 3006 Josie Billie Avenue, Hollywood, FL 33024; Telephone: (954) 965-1314; Fax: (954) 965-1304; Email: kristihill@semtribe.com

Seneca Nation of Indians, Tracy Pacini, Child and Family Services Program Coordinator, 987 RC Hoag Drive or P.O. Box 500, Salamanca, NY 14779; Telephone: (716) 945-5894; Fax: (716) 945-7881; Email: tracy.pacini@senecahealth.org

Shinnecock Indian Nation, Paula Collins, Shinnecock Health Services, P.O. Box 1268, Southhampton, NY 11969 Attn: CHWP; Telephone: (631) 287-6476; Email: ndnpc@hotmail.com

T

Tonawanda Band of Seneca, Darwin Hill, Chief, Council of Chiefs, 7027 Meadville Road, Basom, NY 14013; Telephone: (716) 542-4244; Fax: (716) 542-4008 Email: Tonseneca@aol.com

Tunica Biloxi Indian Tribe of Louisiana, Betty Pierite Logan, Registered Social Worker, P.O. Box 493, Marksville, LA 71351 Telephone: (318) 240-6442; Fax: (318) 253-9791; Email: blogan@tunica.org

Tuscarora Nation of New York, Chief Leo Henry, Clerk, 206 Mount Hope Road, Lewistown, NY 14092; Telephone: (716) 297-1148; Fax: (716)297-7355

W

Wampanoag Tribe of Gay Head (Aquinnah), Bonnie Chalifoux, Director Human Services, 20 Black Brook Road, Aquinnah, MA 02535; Telephone: (508) 645-9265 Ext. 133; Fax: (508) 645-2755; Email: bonnie@wampanoagtribe.net

3. Eastern Oklahoma Region

Eastern Oklahoma Region Director, P.O. Box 8002, Muskogee, OK 74402-8002; Telephone: (918) 781-4600; Fax (918) 781-4604

A

Alabama-Quassarte Tribal Town, Annie Merritt, ICWA Director, P.O. Box 187, Wetumka, OK 74883; Telephone: (405) 452-3881; Fax: (405) 452-3889; Email: amerritt@alabama-quassarte.org

C

Cherokee Nation, Nikki Baker-Limore, Director Division of Children Youth and Family Services, P.O. Box 948, Tahlequah, OK 74465, Telephone: (918) 458-6939, Fax: (918) 458-6146, Email: Nikki-baker-limore@Cherokee.org

The Chickasaw Nation, Angela Connor, Division of Family Support, 231 Seabrook Road, Ada, OK 74820; Telephone: (580) 272-5580, Fax: (580) 272-5590; Email: Angela.Connor@chickasaw.net

Choctaw Nation of Oklahoma, Alison Wolfe, ICW Supervisor, P.O. Box 1210, Durant, OK 74702; Telephone: (580) 924-8280; Fax: (580) 920-3197; Email: awolfe@choctawnation.com

D

Delaware Tribe of Indians, Allan Barnes, ICW Coordinator, 170 NE Barbara, Bartlesville, OK 74006; Telephone: (918) 336-6590; Fax: (918) 337-6591, Email: abarnes@delawaretribe.org

E

Eastern Shawnee Tribe of Oklahoma, Faye Woods, ICW Coordinator, 10100 S. Bluejacket Rd. #3, Wyandotte, OK 74370; Telephone: (918) 666-7710 ext. 1123; Fax: (918) 666-7717; Email: fwoods@estoo.net

K

Kialegee Tribal Town, Angie Beaver, ICW Coordinator, P.O. Box 332, Wetumka, OK 74883; Telephone: (405) 452-5388; Fax: (405) 452-3413; Email: angie.beaver@kialegeetribe.net

M

Miami Tribe of Oklahoma, Callie Lankford, Social Services Director, P.O. Box 1326, Miami, OK 74355; Telephone: (918) 541-1445; Fax: (918) 540-2814; Email: clankford@miamination.com

Modoc Tribe of Oklahoma, Regina Shelton, Child Protection, 625 6th SE., Miami, OK 74354; Telephone: (918) 542-7890; Fax: (918) 542-7878; Email: modoc.ccdf@yahoo.com

Muscogee (Creek) Nation, Carmin Tecumseh-Williams, Director of Child & Family Services, P.O. Box 580, Okmulgee, OK 74447; Telephone: (918) 732-7859 and 1-800-482-1979; Fax: (918) 732-7855

O

Osage Nation, Ann Davis, Social Work Supervisor, 255 Senior Drive, Pawhuska, OK 74056; Telephone: (918) 287-5218; Fax: (918) 287-5231; Email: edavis@osagetribe.org

Ottawa Tribe of Oklahoma, Roy A. Ross, Social Services/CPS Director, P.O. Box 110, Miami, OK 74355; Telephone: (918) 540-1536; Fax: (918) 542-3214; Email: rross.oto@gmail.com

P

Peoria Tribe of Indians of Oklahoma, Doug Journeycake, Indian Child Welfare Director, P.O. Box 1527, Miami, OK 74355; Telephone: (918) 540-2535; Fax: (918) 540-4370; Email: djourneycake@peoriatribe.com

Q

Quapaw Tribe of Oklahoma, Dee Killion, ICW Director, P.O. Box 765, Quapaw, OK 74363; Telephone: (918) 674-2522; Fax: (918) 674-2581; Email: dkillion@quapawtribe.com

S

Seminole Nation of Oklahoma, Tracy Haney, Director of Indian Child Welfare, P.O. Box 1498, Wewoka, OK 74884; Telephone: (405) 257-9038; Fax: (405) 257-9036; Email: haney.t@sno-nsn.gov

Seneca-Cayuga Tribe of Oklahoma, Janet Grant, ICWA Director, 23701 S 655 Road, Grove, OK 74344; Telephone: (918) 786-3508; Fax: (918) 516-0248; Email: jgrant@sctribe.com

Shawnee Tribe, Jodi Hayes, Tribal Administrator, P.O. Box 189 Miami, Oklahoma 74354; Telephone: (918) 542-2441; Fax: (918) 542-2922; Email: shawneetribe@shawneetribe.com

T

Thlopthlocco Tribal Town, Stephanie Rogers, Program Manager, P.O. Box 188, Okemah, OK 74859; Telephone: (918) 560-6198; Fax: (918) 623-3023; Email: srogers@tttown.org

U

United Keetoowah Band of Cherokee Indians in Oklahoma, Joyce Hawk, Tribal Secretary, P.O. Box 746, Tahlequah, OK 74464; Telephone: (918) 453-9375; Fax: (918) 453-9345; jfourkiller@unitedkeetoowahband.org

Wyandotte Nation, Kate Randall, Director of Family Services, 64700 E. Hwy 60, Wyandotte, OK 74370; Telephone: (918) 678-2297; Fax: (918) 678-3087; Email: krandall@wyandotte-nation.org

4. Great Plains Region

Great Plains Region Director, 115 4th Avenue SE, Aberdeen, SD 57401; Telephone: (605) 226-7343; Fax: (605) 226-7443

C

Cheyenne River Sioux Tribe, Ms. Diane Garreau, Indian Child Welfare Act Program Director, P.O. Box 590, Eagle Butte, SD 57625; Telephone: (605) 964-6460; Fax: (605) 964-6463

Crow Creek Sioux Tribe, Crow Creek Sioux Tribal Court, P.O. Box 247, Fort Thompson, SD 57339; Telephone: (605) 245-2325/2326; Fax: (605) 245-2401

F

Flandreau Santee Sioux Tribe-Dakota, Celeste Honomichl, ICWA Administrator, Flandreau Santee Sioux Tribal Social Services, P.O. Box 283, Flandreau, SD 57028; Telephone: (605) 997-5055; Fax: (605) 997-3694

L

Lower Brule Sioux Tribe, L. Greg Miller, LBST Counseling Service Director, 187 Oyate Circle, Lower Brule, SD 57528; Telephone: (605) 473-5584; Fax: (605) 473-8051; Email: greg.miller@lbst.org

O

Oglala Sioux Tribe, Juanita Sherick, Director ONTRAC, P.O. Box 2080 Pine Ridge, SD 57752; Telephone: (605) 867-5805; Fax: (605) 867-1893; Email: ontrac@qwtc.net

Omaha Tribe of Nebraska, Deanna Parker, ICWA Specialist, P.O. Box 368, Macy, NE 68039; Telephone: (402) 837-5331; Fax: (402) 837-5362

P

Ponca Tribe of Nebraska, Jill Holt, ICWA Specialist, 2602 J Street, Omaha, NE 68107; Telephone: (402) 734-5275; Fax: (402) 734-5708

R

Rosebud Sioux Tribe, Shirley J. Bad Wound, ICWA Specialist, Rosebud Sioux Tribe ICWA Program, P.O. Box 609 Mission, SD 57555; Telephone: (605) 856-5270; Fax: (605) 856-5268

S

Santee Sioux Nation, Clarissa LaPlante, ICWA Specialist, Dakota Tiwahe Service Unit, Route 2, Box 5191, Niobrara, NE 68760; Telephone: (402) 857-2342; Fax: (402) 857-2361; Email: clarissa.laplante@nebraska.gov

Sisseton-Wahpeton Oyate, Evelyn Pilcher, ICWA Specialist, P.O. Box 509 Agency Village, SD 57262; Telephone: (605) 698-3992; Fax: (605) 698-3999; Email: evelynp@swo-nsn.gov@state.sd.us

Spirit Lake Tribe, ICWA Director, P.O. Box 356, Fort Totten, ND 58335; Telephone: (701) 766-4855; Fax: (701) 766-4273; Email: icwadirector@spiritlakenation.com

Standing Rock Sioux Tribe, Terrance Yellow Fat, Director, Indian Child Welfare Program, P.O. Box 770, Fort Yates, ND 58538; Telephone: (701) 854-3095; Fax: (701) 854-5575; Email: tyellowfat@standingrock.org

T

Three Affiliated Tribes (Mandan, Arikara & Hidatsa), Katherine Felix, ICWA Specialist, 404 Frontage Road, New Town, ND 58763; Telephone: (701) 627-4781; Fax: (701) 627-5550; Email: kfelix@mhanation.com

Turtle Mountain Band of Chippewa Indians, Marilyn Poitra, Indian Child Welfare Specialist, Child Welfare and Family Services, P.O. Box 900, Belcourt, ND 58316; Telephone: (701) 477-5688; Fax: (701) 477-5797; Email: marilynp@tmcwfs.net

W

Winnebago Tribe of Nebraska, Barbara Eagle, ICWA Specialist, #1 Mission Drive Box 723, Winnebago, NE 68071; Telephone: (402) 878-2378; Fax: (402) 878-2228; Email: baeagleW@winnebagotribe.com

Y

Yankton Sioux Tribe, Raymond Cournoyer, ICWA Director, P.O. Box 1153, 108 East Avenue South East, Wagner, SD 57380; Telephone: (605) 384-5712; Fax: (605) 384-5014; Email mmedicinebear1@gmail.com

5. Midwest Region

Midwest Regional Director, 5600 West American Blvd., Suite 500, Norman Pointe II Building, Bloomington, MN 55437; Telephone: (612) 713-4400; Fax: (612) 713-4453

B

Bad River Band of Lake Superior Chippewa, Esie Leoso-Corbine, Director, Family and Social Services, P.O. Box 55, Odanah, WI 54861; Telephone: (715) 682-7135 Ext: 3; Fax: (715) 682-7883; Email: bricw2@badriver-nsn.gov

Bay Mills Indian Community, Phyllis Kinney, Tribal Court Administrator, 12140 W. Lakeshore Dr., Brimley, MI 49715; Phone: (906) 248-3241, (906) 8811; Fax: (906) 248-5817; Email: phyllisk@baymills.org

Bois Forte Reservation Business Committee, Angela Wright, Indian Child Welfare Supervisor, 13071 Nett Lake Road Suite A, Nett Lake, MN 55771; Telephone: (218) 757-3295 or (218) 757-3916; Fax: (218) 757-3335; Email: amwright@boisforte.nsn.gov

F

Fond du Lac Reservation Business Committee, Karen Diver, Chairwoman, 1720 Big Lake Road, Cloquet, MN 55720; Telephone: (218) 879-4593; Fax: (218) 878-2189; Email: karendiver@fdlrez.com

Forest County Potawatomi Community of Wisconsin, Abbey Lukowski, Family Services Division Director, 5415 Everybody's Road, Crandon, WI 54520; Telephone: (715) 478-4812; Fax: (715) 478-7442; Email: Abbey.lukowski@fcpotawatomi-nsn.gov

G

Grand Portage Reservation Business Committee, Patti Foley, Social Worker, P.O. Box 428, Grand Portage, MN 55605; Telephone: (218) 475-2169; Fax: (218) 475-2455; Email: pfoley@grandportage.com

Grand Traverse Band of Ottawa and Chippewa Indians, Helen Cook, Anishinaabek Family Services Supervisor, 2605 N. West Bayshore Drive, Peshawbestown, MI 49682-9275; Telephone: (231) 534-7681; Fax: (231) 534-7706; Email: helen.cook@gtbindians.com

H

Hannahville Indian Community of Michigan, Jessica Brock, ICWA Worker, N15019 Hannahville B1 Road, Wilson, MI 49896; Telephone: (906) 723-2514; Fax: (906) 466-7397; Email: Jessica.brock@hichealth.org

The Ho-Chunk Nation, Stephanie Lozano, ICWA Supervisor, P.O. Box 40, Black River Falls, WI 54615; Telephone: (715) 284-2622; Fax: (715) 284-0097; Email: stephanie.Lozano@ho-chunk.com

Nottawaseppi Huron Band of the Potawatomi, Meg Fairchild, LMSW, CAAC, Clinical Social Worker, 1474 Mno Bmadzewen Way, Fulton, MI 49052; Telephone: (269) 729-4422; Fax: (269) 729-4460; Email: mfairchild@nhbp.org

K

Keweenaw Bay Indian Community, Judy Heath, Director Social Service, 16429 Beartown Road, Baraga, MI 49908; Telephone: (906) 353-4201; Fax: (906) 353-8171; Email: judy@kbic-nsn.gov

L

Lac Courte Oreilles, LuAnn Kolumbus, Tribal Social Services Director, 13394 W. Trepania Road, Hayward, WI 54843; Telephone: (715) 634-8934 ext. 7435; Fax: (715) 634-2981 Email: lcoicw@nsn.gov

Lac du Flambeau, Kristin Allen, ICW Director, P.O. Box 216, Lac du Flambeau, WI 54538; Telephone: (715) 588-4275; Fax: (715) 588-3855; Email: ldficw@ldftribe.com

Lac Vieux Desert, Dee Dee McGeshick, Social Services Director, P.O. Box 249, Watersmeet, MI 49969; Telephone: (906) 358-4940; Fax: (906) 358-4900; Email: dee.mcgeshick@lvdtribal.com

Leech Lake Band of Ojibwe, Victoria White, Child Welfare Director, 115 Sixth Street NW., Suite E, Cass Lake, MN 56633; P.O. Box 967, Cass Lake, MN 56633; Telephone: (218) 335-8270; Fax: (218) 335-3768; Email: Vicki.white@llojibwe.com

Little River Band of Ottawa Indians, William Gregory, Tribal Prosecutor, 3031 Domres Road, Manistee, MI 49660; Telephone: (213) 398-2242; Fax: (231) 398-3404; Email: bgregory@lrboi.com

Little Traverse Bay Bands, Denneen Smith, Human Services Director, 7500 Odawa Circle, Harbor Springs, MI 49740; Telephone: (231) 242-1620; Fax: (213) 242-1635; Email: dmsmith@ltbbodawa-nsn.gov

Lower Sioux, Reanna Jacobs, ICWA Advocate, Darin Prescott, Director, 39568 Reservation Highway 1, Morton, MN 56270; Telephone: (507) 697-9108; Fax: (507) 697-9111; Email: reanna.jacobs@lowersioux.com

M

Match-E-Be-Nash-She-Wish Band of Potawatomi Indians of Michigan (Gun Lake Tribe), Leslie Pigeon, Behavior Health/Human Services Coordinator, P.O. Box 306, Dorr, MI 49323; Telephone: (616) 681-0360 Ext: 316; Fax: (616) 681-0380

Menominee Indian Tribe of Wisconsin, Mary Husby, Director of Social Services, P.O. Box 910 Keshena, WI 54135; Telephone: (715) 799-5161; Fax: (715) 799-6061; Email: mhusby@mitw.org

Mille Lacs Band of Ojibwe, Ted Waukey, Director of Family Services, Mille Lacs Band Government Center, 43408 Oodena Drive, Onamia, MN 56359; Telephone: (320) 532-7778; Fax: (320) 532-7583; Email: Ted.Waukey@millelacsband.com

Minnesota Chippewa Tribe, Linda Johnston, Human Services Director, P.O. Box 217, Cass Lake, MN 56633; Telephone: (218) 335-8585; Fax: (218) 335-8080; Email: ljohnston@mnchippewatribe.org

O

Oneida Tribe of Indians of Wisconsin, Attn: Children and Family Services, P.O. Box 365, Oneida, WI 54155; Telephone: (920) 490-3724; Fax: (920) 490-3820; Email: icw@oneidanation.org

P

Pokagon Band of Potawatomi Indians, Mark Pompey, Social Services Director, 58620 Sink Road, Dowagiac, MI 49047; Telephone: (269) 782-8998; Fax: (269) 782-4295; Email: mark.pompey@pokagonband-nsn.gov

Prairie Island Indian Community, Nancy Anderson, Family Service Manager, 5636 Sturgeon Lake Road, Welch, MN 55089; Telephone: (651) 385-4185; Fax: (651) 385-4183; Email: nanderson@piic.org

R

Red Cliff Band of Lake Superior Chippewa, Lorna Gamble, Indian Child Welfare Department Director, 88385 Pike Road, Highway 13, Bayfield, WI 54814; Telephone: (715) 779-3785; Fax: (715) 779-3783; Email: lorna.gamble@redcliff-nsn.gov

Red Lake Band of Chippewa Indians, Paula Woods, Executive Director—Family & Children Services, P.O. Box 427 Red Lake, MN 56671; Telephone: (218) 679-2122; Fax: (218) 679-2929; Email: pwoods@redlak enation.org

S

Sac & Fox Tribe of the Mississippi in Iowa—Meskwaki, Mylene Wanatee, Meskwaki Family Services Director, P.O. Box 245, 349 Meskwaki Road, Tama, IA 52339; Telephone: (641) 484-4444 Fax: (641) 484-2103; Email: recruiter.mfs@meskwaki-nsn.gov

Saginaw Chippewa Indians of MI, Attn: ICWA Director, 7070 East Broadway, Mt. Pleasant, MI 48858; Telephone: (989) 775-4909; Fax: (989) 775-4912

Sault Ste. Marie Tribe of Chippewa Indians, Juanita Bye, ACFS Division Director, 2218 Shunk Rd, Sault Ste. Marie, MI 49783; Telephone: (906) 632-5250; Fax: (906) 632-5266; Email: jbye@saulttribe.net

Shakopee Mdewakanton Sioux Community, Karen Ross—ICWA Representative, 2330 Sioux Trail NW., Prior Lake, MN 55372; Telephone: (952) 445-8900 or (952) 496-6112; Fax: (952) 445-8906

Sokaogon Chippewa Community of Wisconsin, Angela Vanzile, Director, Family Services, 10808 Sokaogon Drive, Crandon, WI 54520; Telephone: (715) 478-3265; Fax: (715) 478-7618; Email: angela.vanzile@scc-nsn.gov

St. Croix Chippewa Indians of Wisconsin, Erin Fowler, Indian Child Welfare Director, 24670 State Road 35/70, Suite 800, Siren, WI 54872; Telephone: (715) 349-2195; Fax: (715) 349-8665; Email: erinf@stcroixtribalcenter.com

Stockbridge Munsee Community, Stephanie Bowman, ICWA Manager, Stockbridge Munsee Health and Wellness Center, W12802 County A, Bowler, WI 54416; Telephone: (715) 793-4580; Fax: (715) 793-1312; Email: Stephanie.bowman@mohican.com

U

Upper Sioux Community of Minnesota, Linette Tellinghuisen, ICWA Manager, P.O. Box 147, 5744 Hwy. 67, Granite Falls, MN 56241; Telephone: (320) 564-6315; Fax: (320) 564-2550; Email: linettet@uppersiouxcommunity-nsn.gov

W

White Earth Indian Child Welfare, Jeri Jasken, Program Director, P.O. Box 358, White Earth, MN 56591; Telephone: (218) 983-4647; Fax: (218) 983-3712; Email: jeri.jasken@whiteearth.com

6. Navajo Region

Navajo Region Director, Navajo Regional Office, P.O. Box 1060, Gallup, NM 87301; Telephone: (505) 863-8314; Fax: (505) 863-8324

N

Navajo Nation, Regina Yazzie, MSW, Director, Navajo Children and Family Services (ICWA), P.O. Box 1930, Window Rock, AZ 86515; Telephone: (928) 871-6806; Fax: (928) 871-7667; Email: reginayazzie@navajo-nsn.gov

7. Northwest Region

Northwest Regional Director, 911 NE 11th Avenue, Portland, OR 97232; Telephone: (503) 231-6702; Fax (503) 231-2201

B

Burns Paiute Tribe, Michelle Bradach, Social Service Director, 100 Pasigo Street, Burns, OR 97720; Telephone: (541) 573-7312 Ext. 230; Fax: (541) 573-4217; Email: bradachma@burnspaiute-nsn.gov

C

Confederated Tribes of the Chehalis Reservation, Nancy Dufraine, Director of Social Services, P.O. Box 536, Oakville, WA 98568; Telephone: (360) 709-1768; Fax: (360) 273-5207; Email: ndufraine@chehalistribe.org

Confederated Tribe of the Coville Reservation, Michael Humiston, Office of the Reservation Attorney, P.O. Box 150, Nespelem, WA 99155-011; Telephone: (509) 634-2382; Fax: (509) 634-2387

Coeur d'Alene Tribal Council Social Worker Lead, P.O. Box 408, Plummer, ID 83851; Telephone: (208) 686-8106; Fax: (208) 686-4410

Confederated Salish & Kootenai Tribes of the Flathead Reservation, Charlene Petet, Contract Specialist, P.O. Box 278, Pablo, MT 59855; Telephone: (406) 675-2700 Ext. 1120, Fax: (406) 275-2898; Email: charlenep@cskt.org

Confederated Tribes of Coos, Lower Umpqua, & Siuslaw Indians, Dottie Garcia, Family Service Coordinator, P.O. Box 3279, Coos Bay, OR 97420; Telephone: (541) 888-3012; Cell: (541) 297-0370; Fax: (541) 888-1027; Email: dgarcia@ctclusi.org

Confederated Tribes of the Grande Ronde Community of Oregon, Dana Ainam, ICWA Contact, 9615 Grand Ronde Road, Grand Ronde, OR 97347-0038; Telephone: (503) 879-2034; Fax: (503) 879-2142

Confederated Tribes of the Umatilla Indian Reservation, M. Brent Leonhard, Deputy Attorney General, 46411 Timine Way, Pendleton, OR 97801; Telephone/Fax: (541) 429-7406; Email: brentleonhard@ctuir.org

Coquille Indian Tribe, Bridgett Wheeler, ICWA Worker, 3050 Tremont St., North Bend, OR 97459; Telephone: (541) 888-9494; Fax: (541) 888-6701; Email: bridgett@uci.net

Cow Creek Band of Umpqua Tribe of Indians, Andrea Davis, Human Services Director, 2371 NE Stephens Street, Roseburg, OR 97470; Telephone: (541) 677-5575 Ext: 5513; Fax: (541) 677-5574

Cowlitz Indian Tribe, Jim Sherrill, Health and Human Services, P.O. Box 2429, Longview, WA 98632-8594; Telephone: (360) 577-3307; Fax: (360) 577-1948

H

Hoh Indian Tribe, Annette Penn, ICW, P.O. Box 2196, Forks, WA 98331; Telephone: (360) 374-5022; Fax: (360) 374-5039; Email: milab@hohtribe-nsn.org

J

Jamestown Skallam Tribal Council, ICWA Specialist, 1033 Old Blyn Hwy, Sequim, WA 98382; Telephone: (360) 681-4639; Fax: (360) 681-3402

K

Kalispel Tribe of Indians, Wendy L. Thomas, MSW, Support Services Director, 934 S Gargeld Road, Airway Heights, WA 99001; Telephone: (509) 789-7634/Cell (509) 671-6972; Fax: (509) 789-7659; Email: wthomas@camashealth.com

The Klamath Tribes, Misty Barney, Child Welfare Program Manager; Candi Crume, Child Protective Specialist; Jim Collins, ICW Specialist; Lisa Ruiz, Child Welfare Caseworker; P.O. Box 436, Chiloquin, OR 97624; Telephone: (541) 783-2219; Fax: (541) 783-7783; Email: misty.barney@klamathtribes.com; Candi.kirk@klamathtribes.com; jim.collins@klamathtribes.com; Lisa.ruiz@klamathtribes.com.

Kootenai Tribe of Idaho, Jennifer Porter, Vice-Chairwoman, P.O. Box 1269, Bonners Ferry, ID 83805-1269; Telephone: (208) 267-3519; Fax: 208-267-2960

L

Lower Elwha Tribal Community Council, Becca Weed, ICWA Contact, 3080 Lower Elwha Road, Port Angeles, WA 98363-9518; Telephone: (360) 565-7257, ext. 7456; Fax: (360) 457-8429

Lummi Nation, Amy Finkbonner, Lummi Children's Services Manager, P.O. Box 1024 Ferndale, WA 98248; Telephone: (360) 384-2324; Fax: (360) 380-2157; Email: amyf@lummi- nsn.gov

M

Makah Indian Tribal Council, Robin Denney, Social Service Manager, P.O. Box 115, Neah Bay, WA 98357; Telephone: (360) 645-3251/3257; Fax: (360) 645-2806

Metlakatla Indian Community, Metlakatla Indian Community (Northwest Region), Marge Edais- Yeltatzie, Director, Social Services Children's Mental Health & ICW, P.O. Box 85, Metlakatla, AK 99926; Telephone: (907) 886-6911; Fax: (907) 886-6913; Email: marge@msscmh.org

Muckleshoot Indian Tribe, Human Services Division Director, 39015 172nd Avenue SE., Auburn, WA 98092; Telephone: (253) 939-3311; Fax: (253) 876-2855

N

Nez Perce Tribe, Jeanette Pinkham, ICWA Supervisor, P.O. Box 365, Lapwai, ID 83540; Telephone: (208) 843-7302; Fax: (208) 843-9401; Email: Jeanettep@nezperce.org

Nisqually Indian Community, Cynthia Orie, ICWA Contact, 4820 She- Nah-Num Drive SE., Olympia, WA 98513; Telephone: (360) 456-5221; Fax: (360) 486-9555

Nooksack Indian Tribe of Washington, ICW Program Manager, P.O. Box 157, Deming, WA 98244; Telephone: (360) 306-5090; Fax: (360) 592-0167

Northwestern Band of Shoshoni Nation, Jason S. Walker, Chairman, 505 Pershing Ave. Suite 200, Pocatello, ID 83201; Telephone: (208) 478-5712; Fax: (208) 478-5713

P

Port Gamble S'Klallam, David Delmendo, ICWA Program Manager, 31912 Little Boston Road NE., Kingston, WA 98346; Telephone: (360) 297-9672; Fax: (360) 297-9666; Email: davidd@pgst.nsn.us

Puyallup Tribe, Sandra Cooper, ICWA Liaison, 3009 E. Portland Avenue, Tacoma, WA 98404; Telephone: (253) 405-7544; Fax: (253) 680-5998

Q

Quileute Tribal Council, Jessica Smith, ICWA Program Manager, P.O. Box 279, LaPush, WA 98331; Telephone: (360) 374-4340; Fax: (360) 374-7796; Email: jessica.smith@quileutenation.org

Quinault Indian Nation Business Committee, William (Bill) Lay, Quinault Family Services Supervisor, P.O. Box 189, Taholah, WA 98587; Telephone: (360) 276-8215 Ext. 355; Fax: (360) 267-4152; Email: wlay@quinault.org

S

Samish Indian Nation, Michelle Johnson, Family Services Specialist, P.O. Box 217, Anacortes, WA 98221; Telephone: (360) 899-5282; Fax: (360) 299-4357; Email: mjohnson@samishtribe.nsn.us

Sauk-Suiattle Indian Tribe, Raju A.T. Dahlstrom, MSW, Program Administrator Indian Child Welfare, 5318 Chief Brown Lane, Darrington, WA 98241; Telephone: (425) 760-0306; Fax: (360) 436-0242; Email: rdahlstrom@sauk-suiattle.com.

Shoalwater Bay Tribal Council, Katherine Horne, ICWA Contact, P.O. Box 130, Tokeland, WA 98590; Telephone: (360) 267-6766 Ext. 3100; Fax: (360) 267-0247

Shoshone Bannock Tribe, Brandelle Whitworth, Tribal Attorney, P.O. Box 306, Ft. Hall, ID 83203; Telephone: (208) 478-3923; Fax: (208) 237-9736; Email: bwitworth@sbtribes.com

Confederated Tribes of Siletz Indians, Cathern Tufts, Staff Attorney, P.O. Box 549, Siletz, OR 97380; Telephone: (541) 444-8211; Fax: (541) 444-2307; Email: cathernt@ctsi.nsn.us

Skokomish Tribal Council, Laura Munn or Ralph Pulsiser, ICWA Contact, N. 80 Tribal Center Road, Shelton, WA 98584-9748; Telephone: (360) 426-7788; Fax: (360) 877-2151

Snoqualmie Tribe, Marie Ramirez, MSW, ICWA Contact, P.O. Box 280, Carnation, WA 98014; Telephone: (425) 333-5425; Fax: (425) 333-5428

Spokane Tribe of Indians, Tawhnee Colvin, Program Manager/Case Manager, P.O. Box 540, Wellpinit, WA 99040; Telephone: (509) 258-7502; Fax: (509) 258-7029; Email: tawhneec@spokanetribe.com.

Squaxin Island Tribe, Donald Whitener, Tribal Administrator, 10 SE Squaxin Lane, Shelton, WA 98584-9200; Telephone: (360) 432-3900; Fax: (360) 426-6577; Email: dwhitener@squaxin.us.

Stillaguamish Tribe of Indians, Gloria Green, ICW Director, P.O. Box 3782 or 17014 59th Ave NE., Arlington, WA 98223; Telephone: (360) 435-3985 Ext. 21; Fax: (360) 435-2867

Suquamish Indian Tribe of the Port Madison Reservation, Dennis Deaton, ICWA Contact, P.O. Box 498, Suquamish, WA 98392; Telephone: (360) 394-8478; Fax: (360) 697-6774

Swinomish Indian Tribal Community, Tracey Parker, Swinomish Family Services Coordinator, 17337 Reservation Rd, LaConner, WA 98257; Telephone: (360) 466-7222; Email: tparker@swinomish.nsn.us

T

Tulalip Tribe, beda?chelh Manager, 2828 Mission Hill Road, Tulalip, WA 98271; Telephone: (360) 716-3284

U

Upper Skagit Indian Tribe, Felice Keegahn, Indian Child Welfare Coordinator, 25959 Community Plaza Way, Sedro Woolley, WA 98284; Telephone: (360) 854-7077; Fax: (360) 854-7125; Email: felicek@upperskagit.com.

W

Warm Springs Tribal Court, Confederated Tribes of Warm Springs Reservation, Chief Judge Lola Sohappy, ICWA Contact, P.O. Box 850, Warm Springs, OR 97761; Telephone: (541) 553-3454; Fax: (541) 553-3281

Y

Confederated Tribes and Bands of the Yakama Nation, David Lees, Esq, Chief Prosecutor, P.O. Box 1119, Toppenish, WA 98948; Telephone: (509) 865-5121 Ext: 4558; Fax: (509) 865-7078; Email: lees@yakama.com.

8. Pacific Region

Pacific Region Director, BIA, Federal Building, 2800 Cottage Way, Sacramento, CA 95825; Telephone: (916) 978-6000; Fax: (916) 978-6099

A

Agua Caliente Band of Cahuilla Indians, Attn: Tribal Legal Department, 5401 Dinah Shore Drive, Palm Springs, CA 92264; Telephone: (760) 699-6952; Fax: (760) 699-6865

Alturas Rancheria, Chairman, P.O. Box 340, Alturas, CA 96101; Telephone: (530) 233-5571; Fax: 223-4165

Augustine Band of Cahuilla Indians, Mary Ann Green, Chairperson, P.O. Box 846, Coachella, CA 92236; Telephone: (760) 398-4722

B

Barona Band of Mission Indians, Charity White-Voth, Kumeyaay Family Services Director, Southern Indian Health Council, Inc., 4058 Willow Rd., Alpine, CA 91903; Telephone: (619) 445-1188; Fax: (619) 445-0765

Bear River Band of Rohnerville Rancheria, Vevila Hussey, Social Services Director, 27 Bear River Drive, Loleta, CA 95551; Telephone: (707) 773-1900 Ext: 290; Fax: (888) 733-1900; Email: vevilahussey.brb@nsn.gov

Berry Creek Rancheria (See Tyme Maidu Tribe) Big Lagoon Rancheria, Chairperson, P.O. Box 3060, Trinidad, CA 95570; Telephone: (707) 826-2079; Fax: (707) 826-0495

Big Pine Paiute Tribe, Rita Mendoza, Tribal Court Clerk/ICWA Representative, P.O. Box 700 or 825 S. Main Street, Big Pine, CA 93513; Telephone: (760) 938-2003; Fax: (760) 938-2942; Email: r.mendoza@bigpinepaiute.org

Big Sandy Rancheria Band of Western Mono Indians, Dorothy Barton, MSW, ICWA/Social Services Coordinator, P.O. Box 337, Auberry, CA 93602; Telephone: (559) 374-0049; Fax: (559) 855-4129; Email: dbarton@bsrnation.com

Big Valley Rancheria, ICWA, 2726 Mission Rancheria Road, Lakeport, CA 95453; Telephone: (707) 263- 3924; Fax: (707) 263-3977; Email: resparza@big-valley.net

Bishop Paiute Tribe, Margaret L. Romero, ICWA Specialist; 50 TuSu Lane, Bishop, CA 93514; Telephone: (760) 873-4414; Fax: (760) 873-4143; Email: margaret.romero@bishoppaiute.org

Blue Lake Rancheria, Bonnie Mobbs, Exec Assistant, P.O. Box 428, Blue Lake, CA 95525; Telephone: (707) 668-5101; Fax: (707) 668-4272; Email: bmobbs@bluelakerancheria-nsn.gov

Bridgeport Indian Colony, Michael Lumsden, Tribal Administrator, P.O. Box 37 or 355 Sage Brush Drive, Bridgeport, CA 93517; Telephone: (760) 932-7083; Fax: (760) 932-7846; Email: admin@bridgeportindiancolony.com

Buena Vista Rancheria of Me-Wuk Indians, Penny Arciniaga, Tribal Member Services, 1418 20th Street, Suite 200, Sacramento, CA 95811; Telephone: (916) 491-0011; Fax: (916) 491-0012; Email: penny@buenavistatribe.com

C

Cabazon Band of Mission Indians, Chairman, 84-245 Indio Springs Drive, Indio, CA 92201; Telephone: (760) 342-2593; Fax: (760) 347-7880

California Valley Miwok Tribe, Rashel Reznor, ICWA Coordinator, 10601 N. Escondido Pl., Stockton, Calif. 95212; Telephone: (209) 931-4567; Fax: (209) 931-4333; Email: icwa@californiavalleymiwoktribe-nsn.gov

Cahuilla Band of Indians, Executive Director, 52701 Hwy 371, Anza, CA 92539; Telephone: (951) 763-5549; Fax: (951) 763-2808; Email: tribalcouncil@cahuilla.net

Campo Band of Mission Indians, Charity White-Voth, Kumeyaay, Family Services Director, Southern Indian Health Council, Inc., 4058 Willow Rd., Alpine, CA 91903; Telephone: (619) 445-1188; Fax: (619) 445-0765

Cedarville Rancheria, Melissa Davis, Administrative Assistant, 300 West First Street, Alturas, CA 96101; Telephone: (530) 233-3969; Fax: (530) 233-4776; Email: phyrra@rocketmail.com

Cher-Ae Heights Indian Community of the Trinidad Rancheria, Amy Atkins, Executive Manager, P.O. Box 630, Trinidad, CA 95570; Telephone: (707) 677-0211; Fax: (707) 677-3921; Email: aatkins@trinidadrancheria.com

Chicken Ranch Rancheria, Jan Costa, Tribal Administrator, P.O. Box 1159, Jamestown, CA 95327; Telephone: (209) 984-4806; Fax: (209) 984-5606; Email: chixrnch@mlode.com

Cloverdale Rancheria of Pomo Indians, Christina Hermosillo, ICWA Advocate, 555 S. Cloverdale Blvd., Cloverdale, CA 95425; Telephone: (707) 894-5775; Fax: (707) 894-5727

Cold Springs Rancheria, Terri Works, ICWA Director, P.O. Box 209, Tollhouse, CA 93667; Telephone: (559) 855-5043/(559) 855-8360; Fax: (559) 855-4445; Email: csrancheriaterri@netptc.net

Colusa Indian Community Council, Daniel Gomez Sr., Chairman, 3730 Highway 45, Colusa, CA 95932; Telephone: (530) 458-8231; Fax: (530) 458-4186; Email: dgomez@colusansn.gov

Cortina Band of Wintun Indians (Cortina Indian Rancheria), Charlie Wright, Tribal Chairman, P.O. Box 1630, Williams, CA 95987; Telephone: (530) 473-3274, Fax: (530) 473-3301

Coyote Valley Band of Pomo Indians, c/o Lorraine Laiwa, Indian Child And Family Preservation Program, 684 South Orchard Avenue, Ukiah, CA 95482; Telephone: (707) 463-2644; Fax: (707) 463-8956; Email: lorainnel_1@comcast.net

Cuyapaipe Ewiiaapaayp Band of Kumeyaay Indians (See Ewiiaapaayp Band of Kumeyaay Indians

D

Dry Creek Rancheria Band of Pomo Indians, Percy Tejada, ICWA Advocate, P.O. Box 607 Geyserville, CA 95441; Telephone: (707) 522-4248; Fax: (707) 522-4291; Email: percyt@drycreekrancheria.com

E

Elem Indian Colony Pomo Tribe, Nathan M. Brown II, Chairman, P.O. Box 757 Lower Lake, CA 95457; Telephone: (707) 994-3400; Fax: (707) 994-3408; Email: nbrown@elemindiancolony.org

Elk Valley Rancheria, LaWanda Quinnell, Council Secretary, 2332 Howland Hill Rd, Crescent City, CA 95531; Telephone: (707) 464-4680; Fax: (707) 464-4519; Email: lquinnell@elk-valley.com

Enterprise Rancheria Estom Yumeka Maidu Tribe, Shari Ghalayini, ICWA Director, 2133 Monte Vista Ave, Oroville, CA 95966; Telephone: (530) 532-9214; Fax: (530) 532-1768; Email: sharig@enterpriserancheria.org

Ewiiaapaayp Band of Kumeyaay Indians, Will Micklin, CEO, 4050 Willow Road. Alpine, CA 91901; Telephone: (619) 445-6315; Fax: (619) 445-9126

F

Federated Indians of Graton Rancheria, Lara Walker, Wellness and Justice Director, 6400 Redwood Drive, Suite 300, Rohnert Park, CA 94928; Telephone: (707) 586-6110; Fax: (707) 566-2291; Email: lwalker@gratonrancheria.com

Fort Bidwell Reservation, Bernold Pollard, Chairperson, P.O. Box 129, Fort Bidwell, CA 96112; Telephone: (530) 279-6310; Fax: (530) 279-2233

Fort Independence Indian Reservation, Israel Naylor, Tribal Chairman, P.O. Box 67 or 131 North Hwy 395, Independence, CA 93526; Telephone: (760) 878-5160: Fax: (760) 878-2311; Email: Israel@fortindependence.com

G

Greenville Rancheria, Dr. Gonzalo Gonzalez, ICWA Representative, P.O. Box 279, Greenville, CA 95947; Telephone: (530) 284-7990; Fax: (530) 284-6612 ; Email: ggonzalez@greenvillerancheria.com

Grindstone Indian Rancheria, Aaston Bill, ICWA, P.O. Box 63, Elk Creek, CA 95939; Telephone: (530) 968-5365; Fax: (530) 968-5366

Guidiville Band of Pomo Indians, Merlene Sanchez, Tribal Chairperson, P.O. Box 339, Talmage, CA 95481; Telephone: (707) 462-3682; Fax: (707) 462-9183; Email: admin@guidiville.net

H

Habematolel Pomo of Upper Lake, Angelina Arroyo, ICWA Advocate, 375 E. Hwy 20, Suite “I”, Upper Lake, CA 95485-0516; Telephone: (707) 275-0737; Cell: (707) 275-2947; Fax: (707) 275-0757; Email: tribaladmin@upperlepomo.com or executive.secretary@upperlakepomo.com

Hoopa Valley Tribe, Director, Human Services, P.O. Box 1348, Hoopa, CA 95546; Telephone: (530) 625-4211; Fax: (530) 625-4594

Hopland Band of Pomo Indians, Tania Mota, ICWA Social Case Management Worker, 3000 Shanel Rd., Hopland, CA 95449; Telephone: (707) 472-2100 Ext: 1114; Fax: (707) 472-2109; Email: tmota@hoplandtribe.com

I

Inaja & Cosmit Band of Mission Indians, Tribal Family Services, Manager Indian Health Council, Inc., P.O. Box 406, Pauma Valley, CA 92061; Telephone: (760) 749-1410; Fax: (760) 749-5518

Ione Band of Miwok Indians, Pamela Baumgartner, Tribal Administrator, P.O. Box 699, Plymouth, CA 95669; Telephone: (209) 245-5800 Ext: 5801; Email: pam@ionemiwok.org

J

Jackson Rancheria Band of Miwuk Indians, Marshawn Morla, Tribal Secretary, P.O. Box 1090, Jackson, CA 95642; Telephone: (209) 223-1935; Fax: (209) 223-5366; Email: mmorla@jacksoncasino.com

Jamul Indian Village, Charity White- Voth, Kumeyaay Family Services Director, Southern Indian Health Council, Inc., 4058 Willow Rd., Alpine, CA 91903; Telephone: (619) 445-1188; Fax: (619) 445-0765

K

Karuk Tribe of California, April Attebury, Administrator, Child Welfare Services Program/ICWA Unit, 1519 S. Oregon Street, Yreka, CA 96097; Telephone: (530) 841-3141; Fax: (530) 842-6283

L

La Jolla Band of Luiseno Indians, Tribal Family Services, Manager, Indian Health Council, Inc., P.O. Box 406, Pauma Valley, CA 92061; Telephone: (760) 749-1410; Fax: (760) 749-5518

La Posta Band of Mission Indians, Charity White-Voth, Kumeyaay Family Services Director, Southern Indian Health Council, Inc., 4058 Willow Rd., Alpine, CA 91903; Telephone: (619) 445-1188; Fax: (619) 445-0765

Laytonville Rancheria, Cherie Smith- Gibson, Tribal Administrator, P.O. Box 1239, Laytonville, CA 95454; Telephone: (707) 984-6197 Ext: 104; Fax: (707) 984-6201; Email: ta@cahto.org

Lone Pine Reservation, Kathy Brancroft, Enrollment Committee Chairperson, P.O. Box 747, Lone Pine, CA 93545; Telephone: (760) 876-1034; Fax: (760) 876-8302

Los Coyotes Band of Cahuilla & Cupeno Indians, Tribal Family Services Manager, Indian Health Council, Inc., P.O. Box 406, Pauma Valley, California 92061; Telephone: (760) 749-1410; Fax: (760) 749-5518

Koi Nation of Northern California, Chairperson, P.O. Box 3162, Santa Rosa, CA 95402; Telephone: (707) 575-5586; Fax: (707) 575-5506

Lytton Rancheria c/o Indian Child and Family Preservation Program, Liz DeRouen, 2525 Cleveland Ave, Suite H, Santa Rosa, CA 95403; Telephone: (707) 544-8509; Fax: (707) 544-8729; email: lizderouen@sbcglobal.net

M

Manchester-Point Arena Band of Pomo Indians, Lorraine Laiwa, Executive Director, Indian Child and Family Preservation Program, 684 South Orchard Avenue, Ukiah, CA 95482; Telephone: (707) 463-2644; Fax: (707) 463-8956; Email: lorrainel_1@comcast.net

Manzanita Band of Mission Indians, Chairperson, P.O. Box 1302, Boulevard, CA 91905; Telephone: (619) 766-4930; Fax: (619) 766-4957

Mechoopda Indian Tribe of Chico Rancheria, Arlene Ward, Office Manager, 125 Mission Ranch Boulevard, Chico, CA 95926; Telephone: (530) 899-8922; Fax: (530) 899-8517; Email: baward@mechoopda-nsn.gov

Mesa Grande Band of Mission Indians, Tribal Family Services, Manager, Indian Health Council, Inc., P.O. Box 406, Pauma Valley, CA 92061; Telephone: (760) 749-1410; Fax: (760) 749-5518

Middletown Rancheria, ICWA Director, Mary Comito, P.O. Box 1829; Middletown, CA 95461; Telephone: (707) 987-8288; Fax: (707) 987-8205; Cell: (707) 326-6876; Email: mcomito@middletownrancheria.com

Mooretown Rancheria, Francine McKinley, ICWA Director, 1 Alverda Drive, Oroville, CA 95966; Telephone: (530) 533-3625; Fax: (530) 533-0664; Email: icwa@mooretown.org;

Morongo Band of Cahuilla Mission Indians, Paula Tobler, Social Worker, 11581 Potrero Road, Banning, CA 92220; Telephone: (951) 849-4697; Fax: (951) 922-0338

N

North Fork Rancheria of Mono Indians, Elaine Fink, Tribal Chairwoman, P.O. Box 929, North Fork, CA 93643; Telephone: (559) 877-2484; Fax: (559) 877-2467; Email: efink@northforkrancheria-nsn.gov

P

Pala Band of Mission Indians, Season Lattin, ICWA Manager, Department of Social Services, 35008 Pala-Temecula Road, PMB 50, Pala, CA 92059. Telephone: (760) 891-3542; Fax: (760) 742-1293

Paskenta Band of Nomlaki Indians, Ines Crosby, Tribal Administrator, 1012 South Street, Orland, CA 95963; Telephone: (530) 865-2010; Fax: (530) 865-1870; Email: office@paskenta.org

Pauma & Yuima Band of Mission Indians, Tribal Family Services, Manager, Indian Health Council, Inc., P.O. Box 406, Pauma Valley, CA 92061; Telephone: (760) 749-1410; Fax: (760) 749-5518

Pechanga Band of Mission Indians, Mark Macarro, Spokesman, P.O. Box 1477, Temecula, CA 92593; Telephone: (951) 676-2768; Fax: (951) 695-1778

Picayune Rancheria of the Chukchansi Indians, Orianna C. Walker, ICWA Coordinator, 46575 Road 417, Coarsegold, CA 93614; Telephone: (559) 683-6633 Ext: 212; Fax: (559) 692-8792; Email: owalker@picayunerancheria-nsn.gov

Pinoleville Pomo Nation, Lenora Steele, Self-Governance Director, 500 B Pinoleville Drive, Ukiah, CA 95482; Telephone: (707) 463-1454; Fax: (707) 463-6601; Email: lenora@pinolevillensn.us

Pit River Tribe, Veronon Ward, Jr., Coordinator, Social Services, 36970 Park Avenue, Burney, CA 96013; Telephone: (530) 335-5530; Fax: (530) 335-3140

Potter Valley Tribe, Salvador Rosales, Tribal Chairman, 2251 South State Street, Ukiah, CA 95482; Telephone: (707) 462-1213; Fax: (707) 462-1240; Email: pottervalleytribe@pottervalleytribe.com

Q

Quartz Valley Indian Reservation, Frieda Bennett, Education Director/Social Services, 13601 Quartz Valley Rd., Fort Jones, CA 96032; Telephone: (530) 468-5907; Fax: (530) 468-5908

R

Ramona Band or Village of Cahuilla, Susan Reckker, Tribal Administrator, P.O. Box 391670 Anza, CA 92539; Phone: (951)763-4105; Fax: (951) 763-4325; Email: sreckker@ramonatribe.com

Redding Rancheria, Director, Social Services, 2000 Rancheria Road, Redding, CA 96001-5528; Telephone: (530) 225-8979

Redwood Valley Rancheria-Band of Pomo, Janie Navarez, ICWA Coordinator, 3250 Road I, “A” Building, Redwood Valley, CA 95470; Telephone: (707) 485-0361; Fax: (707) 485-5726

Resighini Rancheria, Keshan Dowd, Social Services Director, P.O. Box 529, Klamath, CA 95548; Telephone: (707) 482-2431; Fax: (707) 482-3425

Rincon Band of Mission Indians, Tribal Family Services, Manager, Indian Health Council, P.O. Box 406, Pauma Valley, CA 92061; Telephone: (760) 749-1410; Fax: (760) 749-8901

Robinson Rancheria, ICWA Coordinator, P.O. Box 4015, Nice, CA 95464; Telephone: (707) 275-0527; Fax: (707) 275-0235; Email: mvasquez@robinsonrancheria.com

Round Valley Indian Tribes, Lois Whipple, Tribal President, 77826 Covelo Road, Covelo, CA 95428; Telephone: (707) 983-6126; Fax: (707) 983-6128; Email: administrator@rvit.org

Yocha Dehe Wintun Nation, James Kinter, Tribal Council Secretary, P.O. Box 18, Brooks, CA 95606; Telephone: (530) 796-3400; Fax: (530) 796-2143; Email: djones@yochadehe-nsn.gov

S

San Manuel Band of Mission Indians, Tribal Secretary, 26569 Community Center Drive, Highland, CA 92346; Telephone: (909) 864-8933; Fax: (909) 864-3370

San Pasqual Band of Diegueno Indians, Tribal Family Services, Manager, Indian Health Council, Inc., P.O. Box 406, Pauma Valley, CA 92061; Telephone: (760) 749-1410; Fax: (760) 749-5518

Santa Rosa Band of Cahuilla Indians, John Marcus, Chairman, P.O. Box 391820, Anza, CA 92539; Telephone: (951) 659-2700; Fax: (951) 689-2228.

Santa Rosa Rancheria Tachi-Yokut Tribe, Janice Cuara, Tribal Administrator, 16835 Alkali Drive; P.O. Box 8, Lemoore, CA 93245; Telephone: (559) 924-1278 Ext: 4051; Cell: (559) 381-4928; Fax: (559) 925- 2931; Email: jcuara@tachi-yokut.com

Santa Ynez Band of Chumash Indians, Caren Romero, ICWA Representative, P.O. Box 539, Santa Ynez, CA 93460; Telephone: (805) 694-2671; Fax: (805) 686-2060; Email: cromero@sythc.com

Santa Ysabel Band of Mission Indians-Iipay Nation, Linda Ruis, Director, Santa Ysabel Social Services Dept., P.O. Box 701, Santa Ysabel, CA 92070; Telephone: (760) 765-1106; Fax: (760) 765-0312

Scotts Valley Band of Pomo Indians, Tribal ICWA Worker, 1005 Parallel Drive, Lakeport, CA 95453; Telephone: (707) 263-4220; Fax: (707) 263-4345; Email: cmiller@svpomo.org

Sherwood Valley Band of Pomo Indians, Stefan Hood, ICWA Advocate, 190 Sherwood Hill Drive, Willits, CA 95490; Telephone: (707) 459-9690; Fax: (707) 459-6936; Email: svrchair@gmail.com

Shingle Springs Band of Miwok Indians (Shingle Springs Rancheria), Malissa Tayaba, Social Services Director, P.O. Box 1340; Shingle Springs, CA 95682; Telephone: (530) 698-1436 or (530) 698-1400; Fax: (530) 387-8041; Email: mtayaba@ssband.org

Smith River Rancheria, Dorothy Perry, Director, 140 Rowdy Creek Road, Smith River, CA 95567-9446; Telephone: (707) 487-9255; Fax: (707) 487-0930

Soboba Band of Luiseno Indians, Nancy Currie, Tribal Social Worker, Soboba Tribal Family Services Department; P.O. Box 487, San Jacinto, CA 92581; Telephone: (951) 487-0283; Fax: (951) 487-1738

Kashia Band of Pomo Indians of the Stewarts Point Rancheria, Reno K. Franklin, Tribal Chairman, 1420 Guerneville Rd, Suite 1, Santa Rosa, CA 95403; Telephone: (707) 591-0580; Fax: (707) 591-0583; Email: Reno@stewartspoint.org

Susanville Indian Rancheria, Deborah A. Olstad, Tribal Office Manager, 745 Joaquin St., Susanville, CA 96130; Telephone: (530)251-5153; Fax: (530) 257-7986; Email: dolstad@citilink.net

Sycuan Band of Mission Indians, Charity White-Voth, Kumeyaay Family Services Director, Southern Indian Health Council, Inc., 4058 Willow Rd., Alpine, CA 91903; Telephone: (619) 445-1188; Fax: (619) 445-0765

T

Table Mountain Rancheria, Frank Marquez Jr., Tribal Chief of Police, 23736 Sky Harbour Rd., Friant, CA 93626; Telephone: (559) 822-6336; Fax: (559) 822-6340; Email: fmarquezjr@tmr.org

Tejon Indian Tribe, Kathryn Montes Morgan, Tribal Chair, 1731 Hasti- Acres Drive #108, Bakersfield, CA 93309; Telephone: (661) 834-8566; Email: kmorgan@tejontribe.net

Timbi-sha Shoshone Tribe, Attention: Wally Eddy, 621 West Line Street, Suite 109, Bishop, CA 93514; Telephone: (760) 872-3614; Fax: (760) 872-3670; Email: icwa@timbisha.com

Torres Martinez Desert Cahuilla Indians, Annette Chihuahua, ICWA Case Assistant/Tribal Delegate TMDCI, 66-725 Martinez Rd., Thermal, CA 92274; Telephone: (760) 578-8334 or (760) 397-0455 Ext: 1101; Fax: (760) 397- 3925; Email: achihuahua@tmdci.org

Tule River Reservation, Lolita Garfield, MSW, Director Family Social Services, 340 North Reservation Road, Porterville, CA 93258; Telephone: (559) 781-4271 ext: 1013; Fax: (559) 791-2122; Email: icwadir@tulerivertribe-nsn.gov

Tuolumne Band of Me-Wuk Indians, Kevin Day, Tribal Chair, P.O. Box 699, Tuolumne, CA 95379; Telephone: (209) 928-5300; Fax: (209) 928-1677; Email: kday@mewuk.com

Twenty-Nine Palms Band of Mission Indians, Executive Director, Indian Child & Family Services, P.O. Box 2269, Temecula, CA 92590; Telephone: (951) 676-8832; Fax: (951) 676-3950

Tyme Maidu Tribe (Berry Creek Rancheria), Terilynn Steel, ICWA Supervisor, 5 Tyme Way, Oroville, CA 95966; Telephone: (530) 534-3859, Fax: (530) 534-1151; Email: jessebrown@berrycreekrancheria.com

U

United Auburn Indian Community, Melanie Connors, MSW, ICWA Case Manager, 945 Indian Rancheria Rd., Auburn, CA 95603; Telephone: (530) 251-1510; Fax: (530) 878-5470, Email: MConnors@auburnrancheria.com

Utu Utu Gwaitu Paiute Tribe, Billie Saulque, Chairman, 25669 Hwy 6, PMB I, Benton, CA 93512; Telephone: (760) 933-2321; Fax: (760) 933-2412; Email: bentonpaiutetribe@hughes.net

V

Viejas (Baron Long) Band of Mission Indians, Charity White-Voth, Kumeyaay Family Services Director, Southern Indian Health Council, Inc., 4058 Willow Rd., Alpine, CA 91903; Telephone: (619) 445-1188; Fax: (619) 445-0765

W

Wilton Rancheria, Anastasia Tran, ICWA Advocate, 9300 West Stockton Blvd., Ste. 200 Elk Grove, CA 95758; Telephone: (916) 683-6000; Fax: (916) 683-6015

Wiyot Tribe, Sarah Vevoda, Director of Social Services, 1000 Wiyot Drive, Loleta, CA 95551; Telephone: (707) 733-5055; Fax: (707) 482-1377

Y

Yurok Tribe, Stephanie Weldon, Director Social Services, P.O. Box 1027, Klamath, CA 95548; Telephone: (707) 482-1350; Fax: (707) 482-1377; Email: sweldon@yuroktribe.nsn.us

9. Rocky Mountain Region

Rocky Mountain Regional Director, 2021 4th Avenue North, Billings, MT 59101; Telephone: (406) 247-7943; Fax: (406) 247-7976

B

Blackfeet Tribe of Montana, Kathy Calf Boss Ribs, ICWA Coordinator; Darlene H. Peterson, ICWA Inquiry Technician, P.O. Box 588 Browning, MT 59417; Telephone: (406) 338-7806; Fax: (406) 338-7726; Email: kathybossribs@yahoo.com

C

Chippewa-Cree Tribe, Rocky Boy's Agency, Montana, Christina Trottier, ICWA Case Manager, 31 Agency Square, Box Elder, MT 59521; Telephone: (406) 395-4735; Fax: (406) 395-5184; Email: christina.trottier@yahoo.com

Crow Tribe of the Crow Reservation of Montana, Melveen Paula Fisher, ICWA Coordinator, P.O. Box 340, Crow Agency, MT 59022; Telephone: (406) 638-7429; Fax: (406) 638-7413; Email: MelveenPaula.Fisher@crow-nsn-gov

E

Eastern Shoshone Tribe of the Wind River Reservation, Arnella Oldman, ICWA Coordinator, P.O. Box 1796, Fort Washakie, WY 82514; Telephone: (307) 332-2669; Fax: (307) 332-6593

F

Fort Belknap Indian Community, Myron L. Trottier, ICWA Case Manager, Fort Belknap Social Services, 656 Agency Main Street, Harlem, MT 59526; Telephone: (406) 353-8328; Fax: (406) 353-4634; Email: mtrottier@ftbelknap.org

Fort Peck Assiniboine and Sioux Tribes, Ms. Lois Weeks, ICWA Case Manager, P.O. Box 1027, Poplar, MT 59255; Telephone: (406) 768-2402; Fax: (406) 768-3710; Email: lweeks@fptc.org

N

Northern Arapaho Tribe of the Wind River Reservation, ICWA Coordinator, P.O. Box 396, Fort Washakie, WY 82514; Telephone: (307) 332-6120 ext. 130; Fax: (307) 332-7543

Northern Cheyenne, Michelle Little Wolf Sandcrane, ICWA Coordinator, P.O. Box 128, Lame Deer, Montana 59043; Telephone: (406) 477-4830; Fax: (406) 477-8333; Email: michelle.littlewolf@cheyennenation.com

10. Southern Plains Region

Southern Region Director, 1 Mile North, Hwy 281, Anadarko, OK 73005; Telephone: (405) 247-6673; Fax: (405) 247-5611

A

Absentee-Shawnee Tribe of Oklahoma Indians, Ronelle Baker, ICWA Director, 2025 S. Gordon Cooper Drive, Shawnee, OK 74801; Telephone: (405) 874-4702 Ext. 133; Fax: (405) 878-4540; Email: rbaker@astribe.com

Alabama-Coushatta Tribe of Texas, Samantha Battiest (936) 563-1252; Fax: (936) 563-1254; Email: battiest.samantha@actribe.org

Apache Tribe of Oklahoma, Anadarko Agency, Community Services, P.O. Box 309, Anadarko Oklahoma, 73005, Sallie Allen, Supervisory Social Worker, (405) 247-8515, Fax (405) 247-2252; Email: sallie.allen@bia.gov

Caddo Nation of Oklahoma, Mary Prentiss, ICW Caseworker, P.O. Box 309, Binger, OK 73009; Telephone: (405) 656-9231; Fax: (405) 656-9237; Email: mprentiss@caddonation.org

Cheyenne and Arapaho Tribes of Oklahoma, Yolanda Woods, ICW Coordinator, P.O. Box 27, Concho, OK 73022; Telephone: (405) 422-7471; Fax: (405) 422-8249; Email: ywoods@c-a-tribes.org

Citizen Potawatomi Nation, Janet Draper, ICW Director, 1601 S. Gordon Cooper Drive, Shawnee, OK 74801; Telephone: (405) 878-4831; Fax: (405) 878-4659; Email: jdraper@potawatomi.org

Comanche Nation-Oklahoma, Carol Gooday-Mithlo, ICW Director, P.O. Box 908, Lawton, OK 73502; Telephone: (580) 492-3352; Fax: (580) 354-0808; Email: carolm@comanchenation.com

D

The Delaware Nation, Carlos Juan Feliciano, ICW Director, P.O. Box 825, Anadarko, OK 73005; Telephone: (405) 247-2448 Ext: 1152; Fax (405) 247-5942; Email: jfeliciano@delawarenation.com

F

Fort Sill Apache Tribe of Oklahoma, Ramona Austin, ICWA Director, 43187 US Highway 281, Apache, OK 73006; Telephone: (580) 588-2298; Fax: (580) 588-2106; Email: fsaicw08@yahoo.com

I

Iowa Tribe of Kansas, Chairperson, 3345 B. Thrasher Rd., White Cloud, KS 66094; Telephone: (785) 595-3258

Iowa Tribe of Oklahoma, Mary Davenport, ICW Director, 335588 E. 750 Road, Perkins, OK 74059; Telephone: (405) 547-4234; Fax: (405) 547-1060; Email: mdavenport@iowanation.org

K

Kaw Nation, Roger Sober, ICW Director, P.O. Box 5, Kaw City, Oklahoma 74641;Telephone: (580) 269-2003; Email: rsober@kawnation.com

Kickapoo Traditional Tribe of Texas, Director Indian Child Welfare, 286 Falcon Blvd., Eagle Pass, TX 78852; Telephone: (830) 766-5601; Work Cell: (830) 513-2937; Fax: (830) 776-5605

Kickapoo Tribe of Indians of The Kickapoo Reservation in Kansas, Chairperson, P.O. Box 271, Horton, KS 66439; Telephone: (785) 486-2131

Kickapoo Tribe of Oklahoma, Jodi Owings, ICW and Family Violence Director, P.O. Box 46, McLoud, OK 74851; Telephone: (405) 964-5426; Fax: (405) 964-5431; Email: jwarrior@kickapootribeofoklahoma.com

Kiowa Tribe of Oklahoma, Shannon Ahtone, ICWA Director, P.O. Box 9, Carnegie, Oklahoma 73015; Telephone: (580) 654-2300; Fax: (580) 654-2363

O

Otoe-Missouria Indian Tribe of Oklahoma, Ada Mehojah, Social Services Director, 8151 Highway 177 Red Rock, OK 74651; Telephone: (580) 723-4466 Ext: 256; Cell Phone: (580) 307-7303; Fax: (580) 723-1016; Email: amehojah@omtribe.org

P

Pawnee Nation of Oklahoma, Joanna (Jodi) Flanders, BSW, MSW, ICW Coordinator, P.O. Box 470, Pawnee, OK 74058; Telephone: (918) 762-4045; Fax: (918) 762-6449; Email: jflanders@pawneenation.org

Ponca Tribe of Oklahoma, Amy Oldfield, ICW Director, 20 White Eagle Drive, Ponca City, OK 74601; Telephone: (580) 763-0133; Fax: (580) 763-0134; Email: amyo.ponka@gmail.com

Prairie Band of Potawatomi Nation, Chairperson, 16281 Q. Road, Mayetta, KS 66509; Telephone: (785) 966-2255

S

Sac and Fox Nation in Kansas and Nebraska, Michael Dougherty, Tribal Chairperson, 305 N. Main Street, Reserve, KS 66434; Telephone: (785) 742-0053 Ext: 23; Fax: (785) 742-7146

Sac and Fox Nation, Principal Chief, Route 2, Box 246, Stroud, OK 74079; Telephone: (918) 968-3526

T

Tonkawa Tribe of Oklahoma, Christi Gonzalez, ICWA Director, P.O. Box 70, 1 Rush Buffalo Road, Tonkawa, OK 74653; Telephone: (580) 628-7025; Fax: (580) 628-3336; Email: cgonzalez@tonkawatribe.com

W

Wichita & Affiliated Tribes, Joan Williams, Family & Children Services Director, P.O. Box 729, Anadarko, OK 73005; Telephone: (405) 247-8627; Fax: (405) 247-8873; Email: joan.williams@wichitatribe.com

11. Southwest Region

Southwest Region Director, 1001 Indian School Road, NW., Albuquerque, NM 87104; Phone: (505) 563-3103; Fax: (505) 563-3101

A

Pueblo of Acoma, Marsha Vallo, Child Welfare Coordinator, P.O. Box 354, Acoma, NM 87034; Phone: (505) 552-5162; Fax: (505) 552-0903; Email: Mlvallo@puebloofacoma.org

C

Pueblo de Cochiti, Richard Pecos, Tribal Administrator, 255 Cochiti Street, P.O. Box 70, Cochiti Pueblo, NM 87072; Phone: (505) 465-3104; Fax: (505) 465-1135; Email: richard_pecos@pueblodeconchiti.org

I

Pueblo of Isleta, New Mexico, Jacqueline Yalch, ICWA Coordinator, P.O. Box 1270, Isleta, NM 87022; Phone: (505) 869-2772; Fax (505) 869-7575; Email: Poi05009@isletapueblo.com

J

Pueblo of Jemez, Annette Chinana, Jemez Social Service Program-Child Advocate, P.O. Box 340, Jemez Pueblo, NM 87024; Phone: (575) 834-7117; Fax: (575) 834-7103; Email: Annette.chinana@jemezpueblo.us

Jicarilla Apache Nation, Olivia Nelson-Lucero, Acting Program Manager, Jicarilla Behavioral Health, P.O. Box 546, Dulce, NM 87528; Phone: (575) 759-1712; Fax: (575) 759-3757; Email: onelson@jbhd.org

L

Pueblo of Laguna, Marie A. Alarid, Program Manager and Rebecca Quam, Social Services Specialist II (back-up), P.O. Box 194, Laguna, NM 87026; Phone: (505) 552-9712 Fax: (505) 552-6484; Email: malarid@lagunapueblo-nsn.gov; or rquam@lagunapueblo-nsn.gov

M

Mescalero Apache Tribe, Crystal Lester, Tribal Census Clerk, P.O. Box 227, Mescalero, NM 88340; Phone (575) 464-4494; Fax: (575) 464-9191; Email: clester@matisp.net

N

Pueblo of Nambe, Venus Montoya-Felter, Coordinator, 15A NP102 West, Santa Fe, NM 87506; Phone (505) 455-4412; Fax (505) 455-4455; Email: vmontoya-felter@nambepueblo.org

O

Ohkay Owingeh, Rochelle Thompson, ICWA Director, P.O. Box 1187, Ohkay Owingeh, NM 87566; Phone (575) 770-0033; Fax: (505) 852-1372; Email: Rochelle.thompson@ohkayowingehnsn.gov

P

Pueblo of Picuris, Jose Albert Valdez, P.O. Box 127, Penasco, NM 87553; Phone (575) 587-1003; Cell: (575) 779-2146; Fax (575) 587-1003; Email: javicwa@aol.com

Pueblo of Pojoaque, Elizabeth Duran MSW, MPH, Social Services Director, 58 Cities of Gold Road, Suite 4, Santa Fe, NM 87506; Phone: (505) 455-0238; Fax: (505) 455-2363; Email: eduran@puebloofpojoaque.org

R

Ramah Navajo School Board, Inc., Marlene Martinez, Administrative Services Director, P.O. Box 10, Pine Hill, NM 87357; Phone (505) 775-3256; Fax: (505) 775-3240; Email: marlene@rnsb.k12.nm.us

S

Pueblo of San Felipe, Darlene Valencia, MSW, Family Services Department Director, P.O. Box 4339, San Felipe Pueblo, NM 87004; Phone (505) 771-9900; Fax: (505) 867-6166; Email: dvalencia@sfpueblo.com

Pueblo of San Ildelfonso, Julie Sanchez, ICWA Manager/Family Advocate, 02 Tunyo Po, Santa Fe, NM 87506; Phone (505) 455-4164; Fax: (505) 455-7942; Email: jjsanchez@sanipueblo.org

Pueblo of Sandia, Randall Berner, Behavioral Health Manager, 481 Sandia Loop, Bernalillo, NM 87004; Phone: (505) 867-5131; Fax: (505) 867-7099; Email: rberner@sandiapueblo.nsn.us

Pueblo of Santa Ana, George M. Montoya, Governor, Santa Ana Pueblo, 02 Dove Road, Santa Ana Pueblo, NM 87004; Phone: (505) 771-6702; Fax:(505) 771-6575; Email: governor@santaana-nsn.gov

Pueblo of Santa Clara, Cheryl Tafoya, ICWA Worker, P.O. Box 580, Espanola, NM 87532; Phone: (505) 753-0419 or (505) 692-6250; Fax: (505) 753-0420; Email: ectafoya@santaclarapueblo.org

Santo Domingo, Doris Bailon, Program Director, P.O. Box 129, Santo Domingo, NM 87052; Phone: (505) 465-0630; Fax: (505) 465-2554; Email: dbailon@kewa-nsn.us

Southern Ute Indian Tribe, Jerri Sindelar, ICWA Caseworker, MS 40, P.O. Box 737, Ignacio, CO 81137; Phone (970) 769-2920; Fax (970) 563-0334; Email: jsindelar@southernute.nsn.us

T

Pueblo of Taos, Ezra Bayles, Taos Pueblo Health and Community Services, P.O. Box 1846, Taos, NM 87571; Phone: (575) 758-7824; Fax: (575) 758-3346; Email: EBayles@taospueblo.com

Pueblo of Tesuque, Jeanette Jagles, Director Social Services, Route 42, Box 360-T, Santa Fe, NM 87506; Phone: (505) 955-7713; Fax: (505) 982-2331; Email: jjagles@pueblooftesuque.org

U

Ute Mountain Ute Tribe, Constance Lehi, Director, P.O. Box 300, Towaoc, CO 81334; Phone: (970) 564-5302; Fax: (970) 564-5300; Email: Clehi@utemoutain.org

Y

Ysleta del Sur Pueblo, Jesus Donacio, ICW Specialist, 9314 Juanchido Ln., El Paso, TX 79907; Phone: (915) 860-6119, Ext. 6174; Fax: (915) 858-2367; Email: JDonacio@ydsp-nsn.gov

Z

Pueblo of Zia, Victoria Herrera, ICWA Coordinator, 135 Capital Square Drive, Zia Pueblo, NM 87053; Phone: (505) 867-3304; Fax: (505) 867-3308; Email: vherrera@ziapueblo.org

Pueblo of Zuni, Betty Nez, Program Manager, P.O. Box 339, Zuni, NM 87327; Phone: (505) 782-7166; Fax: (505) 782-7221; Email: betnez@ashiwi.org

12. Western Region

Western Region Director, 2600 North Central Avenue, Phoenix, AZ 85004; Telephone: (602) 379-6600; Fax: (602) 379-4413; Marjorie Eagleman, MSW, Regional Social Worker, 2600 North Central Avenue, Phoenix, AZ 85004; Telephone: (602) 379-6785; Fax: (602) 379-3010; Email: Marjorie.eagleman@bia.gov

A

Ak-Chin Indian Community, Carole Lopez, Enrollment Specialist, 42507 West Peters & Nall Road, Maricopa, AZ 85138; Telephone: (520) 568-1006; Fax: (520) 568-1001; Email: clopez@AK-chin.nsn.us

B

Battle Mountain Band Council, Monica Price, Social Worker III/ICWA Coordinator, 37 Mountain View Drive, Battle Mountain, NV 89820; Telephone: (775) 635-2004; Fax: (775) 635-8528

C

Chemehuevi Indian Tribe, Ronald Escobar, Secretary/Treasurer, P.O. Box 1976, Havasu Lake, CA 92363; Telephone: (760) 858-4219; Fax: (760) 858-5400

Cocopah Indian Tribe, Tomas Romero, CTS-ICWA Specialist, 14515 South Veterans Drive, Somerton, AZ 85350; Telephone: (928) 627-3729; Fax: (928) 627-3316; Email: cocopahicwa@cocopah.com

Colorado River Indian Tribes, Ray Barnett Social Services Manager, 12302 Kennedy Drive, Parker, AZ 85344; Telephone: (928) 669-8187; Fax: (928) 669-8881; Email: ray.barnett@CRIT-DHS.org

Confederated Tribes of the Goshute Reservation, Stefany Sellick, ICWA, P.O. Box HC61 Box 6104,, Ibapah, UT 84034; Telephone: (435) 234-1178; Fax: (435) 234-1219; Email: stefanysellick@goshutetribe.com

D

Duckwater Shoshone Tribe, Iskandar Alexandar, MSW, Social Worker ; P.O. Box 140087, Duckwater, NV 89314; Telephone: (775) 863-0222; Fax: (775) 863-0142

E

Elko Band Council of Te- Moak Tribe, Chesarae Christean, Social Worker 1745 Silver Eagle Drive, Elko, NV 89801; Telephone: (775) 738-8889; Fax: (775) 778-3397; Email: elkobandsocial@frontiernet.net

Ely Shoshone Tribe, RaeJean Morrill, Social Worker II, 16 Shoshone Circle, Ely, NV 89301; Telephone: (775) 289-4133; Fax: (775) 289-3237

F

Fallon Paiute-Shoshone Tribe, ICWA Representative, 1007 Rio Vista, Fallon, NV 89406; Telephone: (775) 423-1215; Fax: (775) 423-8960; Email: ssdirector@fpst.org

Fort McDermitt Paiute-Shoshone Tribe, Dee Crutcher, ICWA Advocate, P.O. Box 68, McDermitt, NV 89421; Telephone: (775) 532-8263, Ext. 111; Fax: (775) 532-8060; Email: dee.crutcher@fmpst.org

Fort McDowell Yavapai Nation, James Esquirell, ICWA Coordinator/CPS Worker, P.O. Box 17779, Fountain Hills, AZ 85269; Telephone: (480) 789-7990; Fax: (480) 837-4809; Email: jesquirell@ftmcdowell.org

Fort Mojave Indian Tribe, Melvin Lewis Sr., Director, Social Services, 500 Merriman Avenue, Needles, CA 92363; Telephone: (928) 346-1550 or Toll Free Number: (866) 346-6010; Fax: (928) 346-1552; Email: ssdir@ftmojave.com

G

Gila River Indian Community, Antoinette Enos, MSW, ICWA Case Manager, Tribal Social Services, P.O. Box 427, Sacaton, AZ 85147; Telephone: (520) 562-3396; Fax: (520) 562-3633; Email: Antoinette.Enos@gric.nsn.us

H

Havasupai Tribe, Tanya Watahomigie, ICWA Coordinator, P.O. Box 10, Supai, AZ 86435; Telephone: (928) 448-2661; Fax: (928) 448-2662; hticwa0@havasupai-nsn.gov

The Hopi Tribe, Hopi Guidance Center, ICWA Coordinator, P.O. Box 68, Second Mesa, AZ 86043; Telephone: (928) 737-1800; Fax: (928) 737-2697

Hualapai Tribe, Vonda R. Beecher, ICWA Worker, P.O. Box 480, Peach Springs, AZ 86434; Telephone: (928) 769-2269/2383/2384/2397; Fax: (928) 769-2659

K

Kaibab Band of Paiute Indians, Ronica L. Spute, Tribal Administrator; HC 65 Box 2, Fredonia, AZ 86022; Telephone: (928) 643-7245; Fax: (888) 822-3734; Email: rspute@kaibabpaiute-nsn.gov

L

Las Vegas Paiute Tribe, Ruth Fitz-Patrick, Social Services Caseworker, 1257 Paiute Circle, Las Vegas, NV 89106; Telephone: (702) 382-0784, #410; Fax: (702) 384-5272; Email: rfitzpatrick@lvpaiute.com

Lovelock Paiute Tribe, Fran Machado, Director Social Services Director, 201 Bowean Street, Lovelock, NV 89419; Telephone: (775) 273-5081; Fax: (775) 273-5151; fmachado@lovelockpaiutetribe.com

M

Moapa Band of Paiutes, Dawn M. Bruce, Social Services Director, P.O. Box 308, Moapa, NV 89025; Telephone: (702) 865-2708; Fax: (702) 864-0408; Email: mbopsocialservices@mvdsl.com

P

Paiute Indian Tribe of Utah, Tyler Goddard, Behavioral Health Director, 440 North Paiute Drive, Cedar City, UT 84721; Telephone: (435) 586-1112; Fax: (435) 867-2659; Email: tyler.goddard@ihs.gov

Pascua Yaqui Tribe, Office of the Attorney General, Attn: Tamara Walters, Assistant Attorney General, 7777 S. Camino Huivisim, Bldg. C, Tucson, AZ 85757; Telephone: (520) 883-5108; Fax: (520) 883-5084; Email: tamara.walters@pascuayaqui-nsn.gov

Pyramid Lake Paiute Tribe, Rose Mary Joe-Kinale, Social Services Director, P.O. Box 256, Nixon, NV 89424; Telephone: (775) 574-1047; Fax: (775) 574-1052; Email: rkinale@plpt.nsn.us

Q

Quechan Tribe, Ft. Yuma, Rod Nelson, Quechan Social Services, Director, P.O. Box 1890, Yuma, AZ 85366-1899; Telephone: (760) 572-0201; Fax: (760) 572-2099; Email: socialservicedirector@quechantribe.com

R

Reno-Sparks Indian Colony, Cheryl Douglas, Human Services Manager, 405 Golden Lane, Reno, NV 89502; Telephone: (775) 329-5071; Fax: (775) 785-8758; Email: cdouglas@rsic.org

S

Salt River Pima-Maricopa Indian Community, Allison Miller, ICWA Coordinator, SRPMIC Social Services Division, 10005 East Osborn Road, Scottsdale, AZ 85256; Telephone: (480) 362-5645, Direct: (480) 362-7533; Fax: (480) 362-5574; Email: Allison.Miller@srpmic-nsn.gov

San Carlos Apache Tribe, Aaron Begay, ICWA Coordinator, P.O. Box 0, San Carlos, AZ 85550; Telephone: (928) 475-2313; Fax: (928) 475-2342; Email: abegay09@tss.scat-nsn.gov

San Juan Southern Paiute Tribe, Savania Tsosie, Social Worker, 180 North 200 East, Suite 111, St. George, UT 84770; Telephone: (435) 674-9720; Fax: (435) 674-9714; Email: savania.tsosie@bia.gov

Shoshone-Paiute Tribes, Zannetta Hanks, LSW, Social Worker, P.O. Box 219, Owyhee, NV 89832; Telephone: (775) 757-2921, Ext. 26; Fax: (775) 757-2253; Email: hanks.zannetta@shopai.org

Skull Valley Band of Goshute Indians, Lori Bear, Chairwoman, P.O. Box 448, Grantsville, UT 84029; Telephone: (435) 882-4532; Fax: (435) 882-4889; Email: ibear@svgoshutes.com

South Fork Band Council, Debbie Honeyestewa, Social Services Director, 21 Lee, B-13, Spring Creek, NV 89815; Telephone: (775) 744-4273; Fax: (775) 744-4523

Summit Lake Paiute Tribe, Elizabeth Delaluz, Council Member ICWA Liaison, 1708 H Street, Sparks, NV 89431; Telephone: (775) 827-9670; Fax: (775) 827-9678; Email: elizabeth.delaluz@summitlaketribe.org

T

Te-Moak Tribe of Western Shoshone Indians (See Elko Band Council)

Tohono O'odham Nation, Jonathan L. Jantzen, Attorney General, P.O. Box 830, Sells, AZ 85634; Telephone: (520) 383-3410; Fax: (520) 383-2689; Email: jonathan.jantzen@tonation-nsn.gov

Tonto Apache Tribe, Brian Echols, Social Services Director, T.A.R. #30, Payson, AZ 85541; Telephone: (928) 474-5000, Ext. 8120, Fax: (928) 474-4159; Email: bechols@TontoApache.org

U

Ute Indian Tribe, Floyd M. Wyasket, Social Services Director, Box 190, Fort Duchesne, UT 84026; Telephone: (435) 725-4026 or (435) 823-0141; Fax: (435) 722-5030; Email: floydw@utetribe.com

W

Walker River Paiute Tribe, Elliott Aguilar, ICWA Specialist, P.O. Box 146 or 1029 Hospital Road, Schurz, NV 89427; Telephone: (775) 773-2058 Ext: 11; Fax: (775) 773-2096;Email: eaguilar@wrpt.us

Washoe Tribe of Nevada and California, Office of the Chairperson, 919 U.S. Highway. 395 South, Gardnerville, NV 89410; Telephone: (775) 265-8600; Fax: (775) 265-6240

Wells Band Te-Moak Shoshone, Sarai Harney, Social Services/ICWA, P.O. Box 809, Wells, NV 89835; Telephone: (775) 345-3079; Fax: (775) 752-2474

White Mountain Apache Tribe, Cora Hinton, ICWA Representative/CPS Supervisor, P.O. Box 1870, Whiteriver, AZ 85941; Telephone: (928) 338-4164, Fax: (928) 338-1469; Email: chinton@wmat.us

Winnemucca Tribe, Chairman, P.O. Box 1370, Winnemucca, NV 89446

Y

Yavapai Apache Nation, Linda Fry, Director, Department of Social Services, 2400 West Datsi Street, Camp Verde, AZ 86322; Telephone: (928) 649-7106; Fax: (928) 567-6832; Email: lfry@yan-tribe.org

Yavapai-Prescott Indian Tribe, Elsie Watchman, Family Support Supervisor, 530 East Merritt, Prescott, AZ 86301; Telephone: (928) 515-7351; Fax: (928) 541-7945; Email: ewatchman@ypit.com

Yerington Paiute Tribe, Vonnie Snooks, Human Services Assistant, 171 Campbell Lane, Yerington, NV 89447; Telephone: (775) 463-7705; Fax: (775) 463-5929; Email: vsnooks@ypt-nsn.gov

Yomba Shoshone Tribe, Raylon M. Dyer, Eligibility Worker, HC 61 Box 6275, Austin, NV 89310; Telephone: (775) 964-2463, Ext. 107; Fax: (775) 964-1352; Email: Socialservices@yombatribe.org

Dated: November 24, 2014.
Kevin K. Washburn,
Assistant Secretary—Indian Affairs.

[FR Doc. 2014-28510 Filed 12-3-14; 8:45 am]

BILLING CODE 4310-4J-P